OFFICE OF PERSONNEL MANAGEMENT

2021 Excepted Service; Consolidated Listing of Schedules A, B, and C Exceptions

AGENCY: Office of Personnel Management.

ACTION: Notice.

SUMMARY: This provides the consolidated notice of all agency specific excepted authorities, approved by the Office of Personnel Management (OPM), under Schedule A, B, and C, as of June 30, 2021, as required by Civil Service Rule VI, Exceptions from the Competitive Service.

FOR FURTHER INFORMATION CONTACT: Julia Alford, Senior Executive Resources Services, Senior Executive Service and Performance Management, Employee Services, 202-606-2246.

SUPPLEMENTARY INFORMATION: Civil Service Rule VI (5 CFR 6.1) requires the U.S. Office of Personnel Management (OPM) to publish notice of exceptions granted under Schedule A, B, and C. Under 5 CFR 213.103(a) it is required that all Schedule A, B, and C appointing authorities available for use by all agencies to be published as regulations in the Federal Register (FR) and the Code of Federal Regulations (CFR). Excepted appointing authorities established solely for use by one specific agency do not meet the standard of general applicability prescribed by the Federal Register Act for regulations published in either the FR or the CFR. Therefore, 5 CFR 213.103(b) requires monthly publication, in the Notices section of the Federal Register, of any Schedule A, B, and C appointing authorities applicable to a single agency. Under 5 CFR 213.103(c) it is required that a consolidated listing of all Schedule A, B, and C authorities, current as of June 30 of each year, be published annually in the Notices section of the Federal Register at www.federalregister.gov/agencies/personnel-management-office. That notice follows. Governmentwide authorities codified in the CFR are not printed in this notice.

When making appointments under an agency-specific authority, agencies should first list the appropriate Schedule A, B, or C, followed by the applicable number, for example: Schedule A, 213.3104(x)(x). Agencies are reminded that all excepted authorities are subject to the provisions of 5 CFR part 302 unless specifically exempted by OPM at the time of approval.

OPM maintains continuing information on the status of all Schedule A, B, and C appointing authorities. Interested parties needing information about specific authorities during the year may obtain information by writing to the Senior Executive Resource Services, Office of Personnel Management, 1900 E Street NW, Room 7412, Washington, DC 20415, or by calling (202) 606-2246.

The following exceptions are current as of June 30, 2021.

Schedule A

03. Executive Office of the President (Sch. A, 213.3103)

(a) Office of Administration—

(1) Not to exceed 75 positions to provide administrative services and support to the White House Office.

(b) Office of Management and Budget—

(1) Not to exceed 20 positions at grades GS-5/15.

(2) Not to Exceed 34 positions that require unique technical skills needed for the re-designing and re-building of digital interfaces between citizens, businesses, and government as a part of Smarter Information Technology Delivery Initiative. This authority may be used to make permanent, time-limited and temporary appointments to Digital Services Expert positions (GS-301) directly related to the implementation of the Smarter Information Technology Delivery Initiative at the GS-14 to 15 level. No new appointments may be made under this authority after September 30, 2017.

(c) Council on Environmental Quality—

(1) Professional and technical positions in grades GS-9 through 15 on the staff of the Council.

(d)-(f) (Reserved)

(g) National Security Council—

(1) All positions on the staff of the Council.

(h) Office of Science and Technology Policy—

(1) Thirty positions of Senior Policy Analyst, GS-15; Policy Analyst, GS-11/14; and Policy Research Assistant, GS-9, for employment of anyone not to exceed 5 years on projects of a high priority nature.

(i) Office of National Drug Control Policy—

(1) Not to exceed 18 positions, GS-15 and below, of senior policy analysts and other personnel with expertise in drug-related issues and/or technical knowledge to aid in anti-drug abuse efforts.

04. Department of State (Sch. A, 213.3104)

(a) Office of the Secretary—

(1) All positions, GS-15 and below, on the staff of the Family Liaison Office, Director General of the Foreign Service and the Director of Personnel, Office of the Under Secretary for Management.

(2) (Reserved)

(b)-(f) (Reserved)

(g) Bureau of Population, Refugees, and Migration—

(1) Not to exceed 10 positions at grades GS-5 through 11 on the staff of the Bureau.

(h) Bureau of Administration—

(1) (Reserved)

(2) One position of the Director, Art in Embassies Program, GM-1001-15.

(3) (Reserved)

05. Department of the Treasury (Sch. A, 213.3105)

(a) Office of the Secretary—

(1) Not to exceed 20 positions at the equivalent of GS-13 through GS-15 or Senior Level (SL) to supplement permanent staff in the study of complex problems relating to international financial, economic, trade, and energy policies and programs of the Government, when filled by individuals with special qualifications for the particular study being undertaken. Employment under this authority may not exceed 4 years.

(2) Covering no more than 100 positions supplementing permanent staff studying domestic economic and financial policy, with employment not to exceed 4 years.

(3) Not to exceed 100 positions in the Office of the Under Secretary for Terrorism and Financial Intelligence.

(4) Up to 35 temporary or time-limited positions at the GS-9 through 15 grade levels to support the organization, design, and stand-up activities for the Consumer Financial Protection Bureau (CFPB), as mandated by Public Law 111-203. This authority may be used for the following series: GS-201, GS-501, GS-560, GS-1035, GS-1102, GS-1150, GS-1720, GS-1801, and GS-2210. No new appointments may be made under this authority after July 21, 2011, the designated transfer date of the CFPB.

(b)-(d) (Reserved)

(e) Internal Revenue Service—

(1) Twenty positions of investigator for special assignments.

(f) (Reserved)

(g) (Reserved, moved to DOJ)

(h) Office of Financial Stability—

(1) Positions needed to perform investment, risk, financial, compliance, and asset management requiring unique qualifications currently not established by OPM. Positions will be in the Office of Financial Stability and the General Schedule (GS) grade levels 12-15 or Senior Level (SL), for initial employment not to exceed 4 years. No new appointments may be made under this authority after December 31, 2012.

(i) Office of the Special Inspector General for Pandemic Recovery—Temporary or time-limited positions at the GS level in the Office of the Special Inspector General for Pandemic Recovery. This authority may be used for the following occupational series: GS-1811 Special Agent, GS-18100 Investigator, GS-1805 Investigative Research/Analyst, GS-1801 Inspection/Investigative Analyst, GS-511 Auditor, GS-510 Accounting, GS-201 Human Resource Specialist, GS-343 Management Analyst, GS-301 Miscellaneous Administrative and Program, GS-2210 Information Technology, GS-1102 Contracting, GS-560 Budget Analyst, GS-1035 Public Affairs at the GS-9 through GS-15 levels. No new appointments may be made under this authority after December 14, 2025 or the termination of the SIGPR, whichever occurs first.

06. Department of Defense (Sch. A, 213.3106)

(a) Office of the Secretary—

(1)-(5) (Reserved)

(6) One Executive Secretary, US-USSR Standing Consultative Commission and Staff Analyst (SALT), Office of the Assistant Secretary of Defense (International Security Affairs).

(b) Entire Department (including the Office of the Secretary of Defense and the Departments of the Army, Navy, and Air Force) —

(1) Dependent School Systems overseas—Professional positions in Military Dependent School systems overseas.

(2) Positions in Attaché 1 systems overseas, including all professional and scientific positions in the Naval Research Branch Office in London.

(3) Positions of clerk-translator, translator, and interpreter overseas.

(4) Positions of Educational Specialist the incumbents of which will serve as Director of Religious Education on the staffs of the chaplains in the military services.

(5) Positions under the program for utilization of alien scientists, approved under pertinent directives administered by the Director of Defense Research and Engineering of the Department of Defense, when occupied by alien scientists initially employed under the program including those who have acquired United States citizenship during such employment.

(6) Positions in overseas installations of the DOD when filled by dependents of military or civilian employees of the U.S. Government residing in the area. Employment under this authority may not extend longer than 2 months following the transfer from the area or separation of a dependent's sponsor: Provided that

(i) A school employee may be permitted to complete the school year; and

(ii) An employee other than a school employee may be permitted to serve up to 1 additional year when the military department concerned finds that the additional employment is in the interest of management.

(7) Twenty secretarial and staff support positions at GS-12 or below on the White House Support Group.

(8) Positions in DOD research and development activities occupied by participants in the DOD Science and Engineering Apprenticeship Program for High School Students. Persons employed under this authority shall be bona fide high school students, at least 14 years old, pursuing courses related to the position occupied and limited to 1,040 working hours a year. Children of DOD employees may be appointed to these positions, notwithstanding the sons and daughters restriction, if the positions are in field activities at remote locations. Appointments under this authority may be made only to positions for which qualification standards established under 5 CFR part 302 are consistent with the education and experience standards established for comparable positions in the competitive service. Appointments under this authority may not be used to extend the service limits contained in any other appointing authority.

(9) (Reserved)

(10) Temporary or time-limited positions in direct support of U.S. Government efforts to rebuild and create an independent, free and secure Iraq and Afghanistan, when no other appropriate appointing authority applies. Positions will generally be located in Iraq or Afghanistan, but may be in other locations, including the United States, when directly supporting operations in Iraq or in Afghanistan. No new appointments may be made under this authority after September 30, 2014.

(11) Not to exceed 3,000 positions that require unique cyber security skills and knowledge to perform cyber risk and strategic analysis, incident handling and malware/vulnerability analysis, program management, distributed control systems security, cyber incident response, cyber exercise facilitation and management, cyber vulnerability detection and assessment, network and systems engineering, enterprise architecture, investigation, investigative analysis and cyber-related infrastructure inter-dependency analysis. This authority may be used to make permanent, time-limited and temporary appointments in the following occupational series: Security (GS-0080), computer engineers (GS-0854), electronic engineers (GS-0855), computer scientists (GS-1550), operations research (GS-1515), criminal investigators (GS-1811), telecommunications (GS-0391), and IT specialists (GS-2210). Within the scope of this authority, the U.S. Cyber Command is also authorized to hire miscellaneous administrative and program (GS-0301) series when those positions require unique cyber security skills and knowledge. All positions will be at the General Schedule (GS) grade levels 09-15 or equivalent. No new appointments may be made under this authority after December 31, 2017

(c) (Reserved)

(d) General—

(1) Positions concerned with advising, administering, supervising, or performing work in the collection, processing, analysis, production, evaluation, interpretation, dissemination, and estimation of intelligence information, including scientific and technical positions in the intelligence function; and positions involved in the planning, programming, and management of intelligence resources when, in the opinion of OPM, it is impracticable to examine. This authority does not apply to positions assigned to cryptologic and communications intelligence activities/functions.

(2) Positions involved in intelligence-related work of the cryptologic intelligence activities of the military departments. This includes all positions of intelligence research specialist, and similar positions in the intelligence classification series; all scientific and technical positions involving the applications of engineering, physical, or technical sciences to intelligence work; and professional as well as intelligence technician positions in which a majority of the incumbent's time is spent in advising, administering, supervising, or performing work in the collection, processing, analysis, production, evaluation, interpretation, dissemination, and estimation of intelligence information or in the planning, programming, and management of intelligence resources.

(e) Uniformed Services University of the Health Sciences—

(1) Positions of President, Vice Presidents, Assistant Vice Presidents, Deans, Deputy Deans, Associate Deans, Assistant Deans, Assistants to the President, Assistants to the Vice Presidents, Assistants to the Deans, Professors, Associate Professors, Assistant Professors, Instructors, Visiting Scientists, Research Associates, Senior Research Associates, and Postdoctoral Fellows.

(2) Positions established to perform work on projects funded from grants.

(f) National Defense University—

(1) Not to exceed 16 positions of senior policy analyst, GS-15, at the Strategic Concepts Development Center. Initial appointments to these positions may not exceed 6 years, but may be extended thereafter in 1-, 2-, or 3-year increments, indefinitely.

(g) Defense Communications Agency—

(1) Not to exceed 10 positions at grades GS-10/15 to staff and support the Crisis Management Center at the White House.

(h) Defense Acquisition University—

(1) The Provost and professors.

(i) George C. Marshall European Center for Security Studies, Garmisch, Germany—

(1) The Director, Deputy Director, and positions of professor, instructor, and lecturer at the George C. Marshall European Center for Security Studies, Garmisch, Germany, for initial employment not to exceed 3 years, which may be renewed in increments from 1 to 2 years thereafter.

(j) Asia-Pacific Center for Security Studies, Honolulu, Hawaii—

(1) The Director, Deputy Director, Dean of Academics, Director of College, deputy department chairs, and senior positions of professor, associate professor, and research fellow within the Asia Pacific Center. Appointments may be made not to exceed 3 years and may be extended for periods not to exceed 3 years.

(k) Business Transformation Agency—

(1) Fifty temporary or time-limited (not to exceed four years) positions, at grades GS-11 through GS-15. The authority will be used to appoint persons in the following series: Management and Program Analysis, GS-343: Logistics Management, GS-346; Financial Management Programs, GS-501; Accounting, GS-510; Computer Engineering, GS-854; Business and Industry, GS-1101; Operations Research, GS-1515; Computer Science, GS-1550; General Supply, GS-2001; Supply Program Management, GS-2003; Inventory Management, GS-2010; and Information Technology, GS-2210.

(l) Special Inspector General for Afghanistan—

(1) Positions needed to establish the Special Inspector General for Afghanistan Reconstruction. These positions provide for the independent and objective conduct and supervision of audits and investigations relating to the programs and operations funded with amounts appropriated and otherwise made available for the reconstruction of Afghanistan. These positions are established at General Schedule (GS) grade levels for initial employment not to exceed 3 years and may, with prior approval of OPM, be extended for an additional period of 2 years. No new appointments may be made under this authority after January 31, 2011.

07. Department of the Army (Sch. A, 213.3107)

(a)-(c) (Reserved)

(d) U.S. Military Academy, West Point, New York—

(1) Civilian professors, instructors, teachers (except teachers at the Children's School), Cadet Social Activities Coordinator, Chapel Organist and Choir-Master, Director of Intercollegiate Athletics, Associate Director of Intercollegiate Athletics, Coaches, Facility Manager, Building Manager, three Physical Therapists (Athletic Trainers), Associate Director of Admissions for Plans and Programs, Deputy Director of Alumni Affairs; and Librarian when filled by an officer of the Regular Army retired from active service, and the Military Secretary to the Superintendent when filled by a U.S. Military Academy graduate retired as a regular commissioned officer for disability.

(e)-(f) (Reserved)

(g) Defense Language Institute—

(1) All positions (professors, instructors, lecturers) which require proficiency in a foreign language or knowledge of foreign language teaching methods.

(h) Army War College, Carlisle Barracks, PA—

(1) Positions of professor, instructor, or lecturer associated with courses of instruction of at least 10 months duration for employment not to exceed 5 years, which may be renewed in 1-,2-, 3-, 4-, or 5-year increments indefinitely thereafter.

(i) (Reserved)

(j) U.S. Military Academy Preparatory School, West Point, New York—

(1) Positions of Academic Director, Department Head, and Instructor.

(k) U.S. Army Command and General Staff College, Fort Leavenworth, Kansas—

(1) Positions of professor, associate professor, assistant professor, and instructor associated with courses of instruction of at least 10 months duration, for employment not to exceed up to 5 years, which may be renewed in 1-, 2-, 3-, 4-, or 5-year increments indefinitely thereafter.

08. Department of the Navy (Sch. A, 213.3108)

(a) General—

(1)-(14) (Reserved)

(15) Marine positions assigned to a coastal or seagoing vessel operated by a naval activity for research or training purposes.

(16) All positions necessary for the administration and maintenance of the official residence of the Vice President.

(b) Naval Academy, Naval Postgraduate School, and Naval War College—

(1) Professors, Instructors, and Teachers; the Director of Academic Planning, Naval Postgraduate School; and the Librarian, Organist-Choirmaster, Registrar, the Dean of Admissions, and Social Counselors at the Naval Academy.

(c) Chief of Naval Operations—

(1) One position at grade GS-12 or above that will provide technical, managerial, or administrative support on highly classified functions to the Deputy Chief of Naval Operations (Plans, Policy, and Operations).

(d) Military Sealift Command

(1) All positions on vessels operated by the Military Sealift Command.

(e)-(f) (Reserved)

(g) Office of Naval Research—

(1) Scientific and technical positions, GS-13/15, in the Office of Naval Research International Field Office which covers satellite offices within the Far East, Africa, Europe, Latin America, and the South Pacific. Positions are to be filled by personnel having specialized experience in scientific and/or technical disciplines of current interest to the Department of the Navy.

09. Department of the Air Force (Sch. A, 213.3109)

(a) Office of the Secretary—

(1) One Special Assistant in the Office of the Secretary of the Air Force. This position has advisory rather than operating duties except as operating or administrative responsibilities may be exercised in connection with the pilot studies.

(b) General—

(1) Professional, technical, managerial and administrative positions supporting space activities, when approved by the Secretary of the Air Force.

(2) Two hundred positions, serviced by Hill Air Force Base, Utah, engaged in interdepartmental activities in support of national defense projects involving scientific and technical evaluations.

(c) Norton and McClellan Air Force Bases, California—

(1) Not to exceed 20 professional positions, GS-11 through GS-15, in Detachments 6 and 51, SM-ALC, Norton and McClellan Air Force Bases, California, which will provide logistic support management to specialized research and development projects.

(d) U.S. Air Force Academy, Colorado—

(1) (Reserved)

(2) Positions of Professor, Associate Professor, Assistant Professor, and Instructor, in the Dean of Faculty, Commandant of Cadets, Director of Athletics, and Preparatory School of the United States Air Force Academy.

(e) (Reserved)

(f) Air Force Office of Special Investigations—

(1) Positions of Criminal Investigators/Intelligence Research Specialists, GS-5 through GS-15, in the Air Force Office of Special Investigations.

(g) Wright-Patterson Air Force Base, Ohio—

(1) Not to exceed eight positions, GS-12 through 15, in Headquarters Air Force Logistics Command, DCS Material Management, Office of Special Activities, Wright-Patterson Air Force Base, Ohio, which will provide logistic support management staff guidance to classified research and development projects.

(h) Air University, Maxwell Air Force Base, Alabama—

(1) Positions of Professor, Instructor, or Lecturer.

(i) Air Force Institute of Technology, Wright-Patterson Air Force Base, Ohio—

(1) Civilian deans and professors.

(j) Air Force Logistics Command—

(1) One Supervisory Logistics Management Specialist, GM-346-14, in Detachment 2, 2762 Logistics Management Squadron (Special), Greenville, Texas.

(k) Wright-Patterson AFB, Ohio—

(1) One position of Supervisory Logistics Management Specialist, GS-346-15, in the 2762nd Logistics Squadron (Special), at Wright-Patterson Air Force Base, Ohio.

(l) Air National Guard Readiness Center—

(1) One position of Commander, Air National Guard Readiness Center, Andrews Air Force Base, Maryland.

10. Department of Justice (Sch. A, 213.3110)

(a) General—

(1) Deputy U.S. Marshals employed on an hourly basis for intermittent service.

(2) Positions at GS-15 and below on the staff of an office of a special counsel.

(3)-(5) (Reserved)

(6) Positions of Program Manager and Assistant Program Manager supporting the International Criminal Investigative Training Assistance Program in foreign countries. Initial appointments under this authority may not exceed 2 years, but may be extended in 1-year increments for the duration of the in-country program.

(7) Positions necessary throughout DOJ, for the excepted service transfer of NDIC employees hired under Schedule A, 213.3110(d). Authority expires September 30, 2012.

(b) (Reserved)

(c) Drug Enforcement Administration—

(1) (Reserved)

(2) Four hundred positions of Intelligence Research Agent and/or Intelligence Operation Specialist in the GS-132 series, grades GS-9 through GS-15.

(3) Not to exceed 200 positions of Criminal Investigator (Special Agent). New appointments may be made under this authority only at grades GS-7/11.

(d) (Reserved, moved to Justice)

(e) Bureau of Alcohol, Tobacco, and Firearms—

(1) One hundred positions of Criminal Investigator for special assignments.

(2) One non-permanent Senior Level (SL) Criminal Investigator to serve as a senior advisor to the Assistant Director (Firearms, Explosives, and Arson).

11. Department of Homeland Security (Sch. A, 213.3111)

(a) (Revoked 11/19/2009)

(b) Law Enforcement Policy—

(1) Ten positions for oversight policy and direction of sensitive law enforcement activities.

(c) Homeland Security Labor Relations Board/Homeland Security Mandatory Removal Board—

(1) Up to 15 Senior Level and General Schedule (or equivalent) positions.

(d) General—

(1) Not to exceed 800 positions to perform cyber risk and strategic analysis, incident handling and malware/vulnerability analysis, program management, distributed control systems security, cyber incident response, cyber exercise facilitation and management, cyber vulnerability detection and assessment, network and systems engineering, enterprise architecture, intelligence analysis, investigation, investigative analysis and cyber-related infrastructure interdependency analysis requiring unique qualifications currently not established by OPM. Positions will be in the following occupations: security (series 0080), intelligence analysis (series 0132), investigative analyst (series 1805), investigator (series 1810), and criminal investigator (series 1811) at the GS-9 through GS-15 grade levels. No new appointments may be made under this authority after January 5, 2022 or the effective date of the completion of regulations implementing the Border Patrol Agency Pay Reform Act of 2014, whichever comes first.

(e) Papago Indian Agency—Not to exceed 25 positions of Immigration and Customs Enforcement (ICE) Tactical Officers (Shadow Wolves) in the Papago Indian Agency in the State of Arizona when filled by the appointment of persons of one-fourth or more Indian blood. (Formerly 213.3105(b)(9))

(f) U.S. Citizenship and Immigration Services

(1) Reserved. (Formerly 213.3110(b)(1))

(2) Not to exceed 500 positions of interpreters and language specialists, GS-1040-5/9. (Formerly 213.3110(b)(2))

(3) Reserved. (Formerly 213.3110(b)(3))

(g) U.S. Immigration and Customs Enforcement—

(1) Not to exceed 200 staff positions, GS-15 and below for an emergency staff to provide health related services to foreign entrants. (Formerly 213.3116(b)(16))

(h) Federal Emergency Management Agency—

(1) Field positions at grades GS-15 and below, or equivalent, which are engaged in work directly related to unique response efforts to environmental emergencies not covered by the Disaster Relief Act of 1974, Public Law 93-288, as amended. Employment under this authority may not exceed 36 months on any single emergency. Persons may not be employed under this authority for long-term duties or for work not directly necessitated by the emergency response effort. (Formerly 213.3195(a))

(2) Not to exceed 30 positions at grades GS-15 and below in the Offices of Executive Administration, General Counsel, Inspector General, Comptroller, Public Affairs, Personnel, Acquisition Management, and the State and Local Program and Support Directorate which are engaged in work directly related to unique response efforts to environmental emergencies not covered by the Disaster Relief Act of 1974, Public Law 93-288, as amended. Employment under this authority may not exceed 36 months on any single emergency, or for long-term duties or work not directly necessitated by the emergency response effort. No one may be reappointed under this authority for service in connection with a different emergency unless at least 6 months have elapsed since the individual's latest appointment under this authority. (Formerly 213.3195(b))

(3) Not to exceed 350 professional and technical positions at grades GS-5 through GS-15, or equivalent, in Mobile Emergency Response Support Detachments (MERS). (Formerly 213.3195(c))

(i) U.S. Coast Guard—

(1) Reserved. (Formerly 213.3194(a))

(2) Lamplighters. (Formerly 213.3194(b))

(3) Professors, Associate Professors, Assistant Professors, Instructors, one Principal Librarian, one Cadet Hostess, and one Psychologist (Counseling) at the Coast Guard Academy, New London, Connecticut. (Formerly 213.3194(c))

12. Department of the Interior (Sch. A, 213.3112)

(a) General—

(1) Technical, maintenance, and clerical positions at or below grades GS-7, WG-10, or equivalent, in the field service of the Department of the Interior, when filled by the appointment of persons who are certified as maintaining a permanent and exclusive residence within, or contiguous to, a field activity or district, and as being dependent for livelihood primarily upon employment available within the field activity of the Department.

(2) All positions on Government-owned ships or vessels operated by the Department of the Interior.

(3) Temporary or seasonal caretakers at temporarily closed camps or improved areas to maintain grounds, buildings, or other structures and prevent damages or theft of Government property. Such appointments shall not extend beyond 130 working days a year without the prior approval of OPM.

(4) Temporary, intermittent, or seasonal field assistants at GS-7, or its equivalent, and below in such areas as forestry, range management, soils, engineering, fishery and wildlife management, and with surveying parties. Employment under this authority may not exceed 180 working days a year.

(5) Temporary positions established in the field service of the Department for emergency forest and range fire prevention or suppression and blister rust control for not to exceed 180 working days a year: Provided, that an employee may work as many as 220 working days a year when employment beyond 180 days is required to cope with extended fire seasons or sudden emergencies such as fire, flood, storm, or other unforeseen situations involving potential loss of life or property.

(6) Persons employed in field positions, the work of which is financed jointly by the Department of the Interior and cooperating persons or organizations outside the Federal service.

(7) All positions in the Bureau of Indian Affairs and other positions in the Department of the Interior directly and primarily related to providing services to Indians when filled by the appointment of Indians. The Secretary of the Interior is responsible for defining the term “Indian.”

(8) Temporary, intermittent, or seasonal positions at GS-7 or below in Alaska, as follows: Positions in nonprofessional mining activities, such as those of drillers, miners, caterpillar operators, and samplers. Employment under this authority shall not exceed 180 working days a year and shall be appropriate only when the activity is carried on in a remote or isolated area and there is a shortage of available candidates for the positions.

(9) Temporary, part-time, or intermittent employment of mechanics, skilled laborers, equipment operators, and tradesmen on construction, repair, or maintenance work not to exceed 180 working days a year in Alaska, when the activity is carried on in a remote or isolated area and there is a shortage of available candidates for the positions.

(10) Seasonal airplane pilots and airplane mechanics in Alaska, not to exceed 180 working days a year.

(11) Temporary staff positions in the Youth Conservation Corps Centers operated by the Department of the Interior. Employment under this authority shall not exceed 11 weeks a year except with prior approval of OPM.

(12) Positions in the Youth Conservation Corps for which pay is fixed at the Federal minimum wage rate. Employment under this authority may not exceed 10 weeks.

(b) (Reserved)

(c) Indian Arts and Crafts Board—

(1) The Executive Director

(d) (Reserved)

(e) Office of the Assistant Secretary, Territorial and International Affairs—

(1) (Reserved)

(2) Not to exceed four positions of Territorial Management Interns, grades GS-5, GS-7, or GS-9, when filled by territorial residents who are U.S. citizens from the Virgin Islands or Guam; U.S. nationals from American Samoa; or in the case of the Northern Marianas, will become U.S. citizens upon termination of the U.S. trusteeship. Employment under this authority may not exceed 6 months.

(3) (Reserved)

(4) Special Assistants to the Governor of American Samoa who perform specialized administrative, professional, technical, and scientific duties as members of his or her immediate staff.

(f) National Park Service—

(1) (Reserved)

(2) Positions established for the administration of Kalaupapa National Historic Park, Molokai, Hawaii, when filled by appointment of qualified patients and Native Hawaiians, as provided by Public Law 95-565.

(3) Seven full-time permanent and 31 temporary, part-time, or intermittent positions in the Redwood National Park, California, which are needed for rehabilitation of the park, as provided by Public Law 95-250.

(4) One Special Representative of the Director.

(5) All positions in the Grand Portage National Monument, Minnesota, when filled by the appointment of recognized members of the Minnesota Chippewa Tribe.

(g) Bureau of Reclamation—

(1) Appraisers and examiners employed on a temporary, intermittent, or part-time basis on special valuation or prospective-entrymen-review projects where knowledge of local values on conditions or other specialized qualifications not possessed by regular Bureau employees are required for successful results. Employment under this provision shall not exceed 130 working days a year in any individual case: Provided, that such employment may, with prior approval of OPM, be extended for not to exceed an additional 50 working days in any single year.

(h) Office of the Deputy Assistant Secretary for Territorial Affairs—

(1) Positions of Territorial Management Interns, GS-5, when filled by persons selected by the Government of the Trust Territory of the Pacific Islands. No appointment may extend beyond 1 year.

13. Department of Agriculture (Sch. A, 213.3113)

(a) General—

(1) Agents employed in field positions the work of which is financed jointly by the Department and cooperating persons, organizations, or governmental agencies outside the Federal service. Except for positions for which selection is jointly made by the Department and the cooperating organization, this authority is not applicable to positions in the Agricultural Research Service or the National Agricultural Statistics Service. This authority is not applicable to the following positions in the Agricultural Marketing Service: Agricultural commodity grader (grain) and (meat), (poultry), and (dairy), agricultural commodity aid (grain), and tobacco inspection positions.

(2)-(4) (Reserved)

(5) Temporary, intermittent, or seasonal employment in the field service of the Department in positions at and below GS-7 and WG-10 in the following types of positions: Field assistants for sub professional services; agricultural helpers, helper-leaders, and workers in the Agricultural Research Service and the Animal and Plant Health Inspection Service; and subject to prior OPM approval granted in the calendar year in which the appointment is to be made, other clerical, trades, crafts, and manual labor positions. Total employment under this subparagraph may not exceed 180 working days in a service year: Provided, that an employee may work as many as 220 working days in a service year when employment beyond 180 days is required to cope with extended fire seasons or sudden emergencies such as fire, flood, storm, or other unforeseen situations involving potential loss of life or property. This paragraph does not cover trades, crafts, and manual labor positions covered by paragraph (i) of Sec. 213.3102 or positions within the Forest Service.

(6)-(7) (Reserved)

(b)-(c) (Reserved)

(d) Farm Service Agency—

(1) (Reserved)

(2) Members of State Committees: Provided, that employment under this authority shall be limited to temporary intermittent (WAE) positions whose principal duties involve administering farm programs within the State consistent with legislative and Departmental requirements and reviewing national procedures and policies for adaptation at State and local levels within established parameters. Individual appointments under this authority are for 1 year and may be extended only by the Secretary of Agriculture or his designee. Members of State Committees serve at the pleasure of the Secretary.

(e) Rural Development—

(1) (Reserved)

(2) County committeemen to consider, recommend, and advise with respect to the Rural Development program.

(3)-(5) (Reserved)

(6) Professional and clerical positions in the Trust Territory of the Pacific Islands when occupied by indigenous residents of the Territory to provide financial assistance pursuant to current authorizing statutes.

(f) Agricultural Marketing Service—

(1) Positions of Agricultural Commodity Graders, Agricultural Commodity Technicians, and Agricultural Commodity Aids at grades GS-9 and below in the tobacco, dairy, and poultry commodities; Meat Acceptance Specialists, GS-11 and below; Clerks, Office Automation Clerks, and Computer Clerks at GS-5 and below; Clerk-Typists at grades GS-4 and below; and Laborers under the Wage System. Employment under this authority is limited to either 1,280 hours or 180 days in a service year.

(2) Positions of Agricultural Commodity Graders, Agricultural Commodity Technicians, and Agricultural Commodity Aids at grades GS-11 and below in the cotton, raisin, peanut, and processed and fresh fruit and vegetable commodities and the following positions in support of these commodities: Clerks, Office Automation Clerks, and Computer Clerks and Operators at GS-5 and below; Clerk-Typists at grades GS-4 and below; and, under the Federal Wage System, High Volume Instrumentation (HVI) Operators and HVI Operator Leaders at WG/WL-2 and below, respectively, Instrument Mechanics/Workers/Helpers at WG-10 and below, and Laborers. Employment under this authority may not exceed 180 days in a service year. In unforeseen situations such as bad weather or crop conditions, unanticipated plant demands, or increased imports, employees may work up to 240 days in a service year. Cotton Agricultural Commodity Graders, GS-5, may be employed as trainees for the first appointment for an initial period of 6 months for training without regard to the service year limitation.

(3) Milk Market Administrators

(4) All positions on the staffs of the Milk Market Administrators.

(g)-(k) (Reserved)

(l) Food Safety and Inspection Service—

(1)-(2) (Reserved)

(3) Positions of Meat and Poultry Inspectors (Veterinarians at GS-11 and below and non-Veterinarians at appropriate grades below GS-11) for employment on a temporary, intermittent, or seasonal basis, not to exceed 1,280 hours a year.

(m) Grain Inspection, Packers and Stockyards Administration—

(1) One hundred and fifty positions of Agricultural Commodity Aid (Grain), GS-2/4; 100 positions of Agricultural Commodity Technician (Grain), GS-4/7; and 60 positions of Agricultural Commodity Grader (Grain), GS-5/9, for temporary employment on a part-time, intermittent, or seasonal basis not to exceed 1,280 hours in a service year.

(n) Alternative Agricultural Research and Commercialization Corporation—

(1) Executive Director

14. Department of Commerce (Sch. A, 213.3114)

(a) General—

(1)-(2) (Reserved)

(3) Not to exceed 50 scientific and technical positions whose duties are performed primarily in the Antarctic. Incumbents of these positions may be stationed in the continental United States for periods of orientation, training, analysis of data, and report writing.

(b)-(c) (Reserved)

(d) Bureau of the Census—

(1) Positions in support of decennial operations (including decennial pre-tests). Appointments may be made on a time limited basis that lasts the duration of decennial operations but may not exceed 7 years. Extensions beyond 7 years may be requested on a case-by-case basis.

(2) Positions of clerk, field representative, field leader, and field supervisor in support of data collection operations (non-decennial operations). Appointments may be made on a permanent or a time-limited basis. Appointments made on a time limited basis may not exceed 4 years. Extensions beyond 4 years may be requested on a case-by-case basis.

(e)-(h) (Reserved)

(i) Office of the Under Secretary for International Trade—

(1) Fifteen positions at GS-12 and above in specialized fields relating to international trade or commerce in units under the jurisdiction of the Under Secretary for International Trade. Incumbents will be assigned to advisory rather than to operating duties, except as operating and administrative responsibility may be required for the conduct of pilot studies or special projects. Employment under this authority will not exceed 2 years for an individual appointee.

(2) (Reserved)

(3) Not to exceed 15 positions in grades GS-12 through GS-15, to be filled by persons qualified as industrial or marketing specialists; who possess specialized knowledge and experience in industrial production, industrial operations and related problems, market structure and trends, retail and wholesale trade practices, distribution channels and costs, or business financing and credit procedures applicable to one or more of the current segments of U.S. industry served by the Under Secretary for International Trade, and the subordinate components of his organization which are involved in Domestic Business matters. Appointments under this authority may be made for a period not to exceed 2 years and may, with prior OPM approval, be extended for an additional 2 years.

(j) National Oceanic and Atmospheric Administration—

(1)-(2) (Reserved)

(3) All civilian positions on vessels operated by the National Ocean Service.

(4) Temporary positions required in connection with the surveying operations of the field service of the National Ocean Service. Appointment to such positions shall not exceed 8 months in any 1 calendar year.

(k) (Reserved)

(l) National Telecommunication and Information Administration—

(1) Thirty-eight professional positions in grades GS-13 through GS-15.

15. Department of Labor (Sch. A, 213.3115)

(a) Office of the Secretary—

(1) Chairman and five members, Employees' Compensation Appeals Board.

(2) Chairman and eight members, Benefits Review Board.

(b)-(c) (Reserved)

(d) Employment and Training Administration—

(1) Not to exceed 10 positions of Supervisory Manpower Development Specialist and Manpower Development Specialist, GS-7/15, in the Division of Indian and Native American Programs, when filled by the appointment of persons of one-fourth or more Indian blood. These positions require direct contact with Indian tribes and communities for the development and administration of comprehensive employment and training programs.

16. Department of Health and Human Services (Sch. A, 213.3116)

(a) General—

(1) Intermittent positions, at GS-15 and below and WG-10 and below, on teams under the National Disaster Medical System including Disaster Medical Assistance Teams and specialty teams, to respond to disasters, emergencies, and incidents/events involving medical, mortuary and public health needs.

(b) Public Health Service—

(1) (Reserved)

(2) Positions at Government sanatoria when filled by patients during treatment or convalescence.

(3) (Reserved)

(4) Positions concerned with problems in preventive medicine financed or participated in by the Department of Health and Human Services and a cooperating State, county, municipality, incorporated organization, or an individual in which at least one-half of the expense is contributed by the participating agency either in salaries, quarters, materials, equipment, or other necessary elements in the carrying on of the work.

(5)-(6) (Reserved)

(7) Not to exceed 50 positions associated with health screening programs for refugees.

(8) All positions in the Public Health Service and other positions in the Department of Health and Human Services directly and primarily related to providing services to Indians when filled by the appointment of Indians. The Secretary of Health and Human Services is responsible for defining the term “Indian.”

(9) (Reserved)

(10) Health care positions of the National Health Service Corps for employment of any one individual not to exceed 4 years of service in health manpower shortage areas.

(11)-(15) (Reserved)

(c)-(e) (Reserved)

(f) Reserved

17. Department of Education (Sch. A, 213.3117)

(a) Positions concerned with problems in education financed and participated in by the Department of Education and a cooperating State educational agency, or university or college, in which there is joint responsibility for selection and supervision of employees, and at least one-half of the expense is contributed by the cooperating agency in salaries, quarters, materials, equipment, or other necessary elements in the carrying on of the work.

18. Environmental Protection Agency (sch. A, 213.3118)

24. Board of Governors, Federal Reserve System (Sch. A, 213.3124)

(a) All positions

27. Department of Veterans Affairs (Sch. A, 213.3127)

(a) Construction Division—

(1) Temporary construction workers paid from “purchase and hire” funds and appointed for not to exceed the duration of a construction project.

(b) Alcoholism Treatment Units and Drug Dependence Treatment Centers—

(1) Not to exceed 400 positions of rehabilitation counselors, GS-3 through GS-11, in Alcoholism Treatment Units and Drug Dependence Treatment Centers, when filled by former patients.

(c) Board of Veterans' Appeals—

(1) Positions, GS-15, when filled by a member of the Board. Except as provided by section 201(d) of Public Law 100-687, appointments under this authority shall be for a term of 9 years, and may be renewed.

(2) Positions, GS-15, when filled by a non-member of the Board who is awaiting Presidential approval for appointment as a Board member.

(d) Vietnam Era Veterans Readjustment Counseling Service—

(1) Not to exceed 600 positions at grades GS-3 through GS-11, involved in the Department's Vietnam Era Veterans Readjustment Counseling Service.

(e) Not to Exceed 75 positions that require unique technical skills needed for the re-designing and re-building of digital interfaces between citizens, businesses, and government as a part of Smarter Information Technology Delivery Initiative. This authority may be used to make permanent, time-limited and temporary appointments to non-supervisory Digital Services Expert positions (GS-301) directly related to the implementation of the Smarter Information Technology Delivery Initiative at the GS-15 level. No new appointments may be made under this authority after September 30, 2017.

32. Small Business Administration (Sch. A, 213.3132)

(a) When the President under 42 U.S.C. 5170-5189, the Secretary of Agriculture under 7 U.S.C. 1961, or the Small Business Administration under 15 U.S.C. 636(b)(1) declares an area to be a disaster area, positions filled by time-limited appointment of employees to make and administer disaster loans in the area under the Small Business Act, as amended. Service under this authority may not exceed 7 years. Exception to this time limit may only be made with prior U.S. Office of Personnel Management approval. No one may be appointed under this authority to positions engaged in long-term maintenance of loan portfolios.

(b) When the President under 42 U.S.C. 1855-1855g, the Secretary of Agriculture under 7 U.S.C. 1961, or the Small Business Administration under 15 U.S.C. 636(b)(1) declares an area to be a disaster area, positions filled by time-limited appointment of employees to make and administer disaster loans in that area under the Small Business Act, as amended. No one may serve under this authority for more than an aggregate of 2 years without a break in service of at least 6 months. Persons who have had more than 2 years of service under paragraph (a) of this section must have a break in service of at least 8 months following such service before appointment under this authority. No one may be appointed under this authority to positions engaged in long-term maintenance of loan portfolios.

33. Federal Deposit Insurance Corporation (Sch. A, 213.3133)

(a)-(b) (Reserved)

(c) Temporary or time-limited positions that are directly related with resolving failing insured depository institutions; financial companies; or brokers and dealers; covered by the Dodd-Frank Wall Street Reform and Consumer Protection Act, including but not limited to, the marketing and sale of institutions and any associated assets; paying insured depositors; and managing receivership estates and all associated receivership management activities, up to termination. Time limited appointments under this authority may not exceed 7 years.

36. U.S. Soldiers' and Airmen's Home (Sch. A, 213.3136)

(a) (Reserved)

(b) Positions when filled by member-residents of the Home.

37. General Services Administration (Sch. A, 213.3137)

(a) Not to Exceed 203 positions that require unique technical skills needed for the re-designing and re-building of digital interfaces between citizens, businesses, and government as a part of Smarter Information Technology Delivery Initiative. This authority may be used nationwide to make permanent, time-limited and temporary appointments to Digital Services Expert positions (GS-301) directly related to the implementation of the Smarter Information Technology Delivery Initiative at the GS-11 to 15 level. No new appointments may be made under this authority after September 30, 2017.

46. Selective Service System (Sch. A, 213.3146)

(a) State Directors

48. National Aeronautics and Space Administration (Sch. A, 213.3148)

(a) One hundred and fifty alien scientists having special qualifications in the fields of aeronautical and space research where such employment is deemed by the Administrator of the National Aeronautics and Space Administration to be necessary in the public interest.

55. Social Security Administration (Sch. A, 213.3155)

(a) Arizona District Offices—

(1) Six positions of Social Insurance Representative in the district offices of the Social Security Administration in the State of Arizona when filled by the appointment of persons of one-fourth or more Indian blood.

(b) New Mexico—

(1) Seven positions of Social Insurance Representative in the district offices of the Social Security Administration in the State of New Mexico when filled by the appointment of persons of one-fourth or more Indian blood.

(c) Alaska—

(1) Two positions of Social Insurance Representative in the district offices of the Social Security Administration in the State of Alaska when filled by the appointments of persons of one-fourth or more Alaskan Native blood (Eskimos, Indians, or Aleuts).

62. The President's Crime Prevention Council (Sch. A, 213.3162)

(a) (Reserved)

65. Chemical Safety and Hazard Investigation Board (Sch. A, 213.3165)

(a) (Reserved)

(b) (Reserved)

66. Court Services and Offender Supervision Agency of the District of Columbia (Sch. A, 213.3166)

(a) (Reserved, expired 3/31/2004)

70. Millennium Challenge Corporation (MCC) (Sch. A, 213.3170)

(a) (Reserved, expired 9/30/2007)

(b)

(1) Positions of Resident Country Director and Deputy Resident Country Director, Threshold Director and Deputy Threshold Director. The length of appointments will correspond to the length or term of the compact agreements made between the MCC and the country in which the MCC will work, plus one additional year to cover pre- and post-compact agreement related activities.

74. Smithsonian Institution (Sch. A, 213.3174)

(a) (Reserved)

(b) Smithsonian Tropical Research Institute—All positions located in Panama which are part of or which support the Smithsonian Tropical Research Institute.

(c) National Museum of the American Indian—Positions at GS-15 and below requiring knowledge of, and experience in, tribal customs and culture. Such positions comprise approximately 10 percent of the Museum's positions and, generally, do not include secretarial, clerical, administrative, or program support positions.

75. Woodrow Wilson International Center for Scholars (Sch. A, 213.3175)

(a) One Asian Studies Program Administrator, one International Security Studies Program Administrator, one Latin American Program Administrator, one Russian Studies Program Administrator, four Social Science Program Administrators, one Middle East Studies Program Administrator, one African Studies Program Administrator, one Global Sustainability and Resilience Program Administrator, one Canadian Studies Program Administrator; one China Studies Program Administrator, one Science, Technology and Innovation Program Administrator, and one Mexico Studies Program Administrator.

78. Community Development Financial Institutions Fund (Sch. A, 213.3178)

(a) (Reserved, expired 9/23/1998)

80. Utah Reclamation and Conservation Commission (Sch. A, 213.3180)

(a) Executive Director

82. National Foundation on the Arts and the Humanities (Sch. A, 213.3182)

(a) National Endowment for the Arts—

(1) Artistic and related positions at grades GS-13 through GS-15 engaged in the review, evaluation and administration of applications and grants supporting the arts, related research and assessment, policy and program development, arts education, access programs and advocacy, or evaluation of critical arts projects and outreach programs. Duties require artistic stature, in-depth knowledge of arts disciplines and/or artistic-related leadership qualities.

90. African Development Foundation (Sch. A, 213.3190)

(a) One Enterprise Development Fund Manager. Appointment is limited to four years unless extended by OPM.

91. Office of Personnel Management (Sch. A, 213.3191)

(a)-(c) (Reserved)

(d) Part-time and intermittent positions of test examiners at grades GS-8 and below.

94. Department of Transportation (Sch. A, 213.3194)

(a)-(d) (Reserved)

(e) Maritime Administration—

(1)-(2) (Reserved)

(3) All positions on Government-owned vessels or those bareboats chartered to the Government and operated by or for the Maritime Administration.

(4)-(5) (Reserved)

(6) U.S. Merchant Marine Academy, positions of: Professors, Instructors, and Teachers, including heads of Departments of Physical Education and Athletics, Humanities, Mathematics and Science, Maritime Law and Economics, Nautical Science, and Engineering; Coordinator of Shipboard Training; the Commandant of Midshipmen, the Assistant Commandant of Midshipmen; Director of Music; three Battalion Officers; three Regimental Affairs Officers; and one Training Administrator.

(7) U.S. Merchant Marine Academy positions of: Associate Dean; Registrar; Director of Admissions; Assistant Director of Admissions; Director, Office of External Affairs; Placement Officer; Administrative Librarian; Shipboard Training Assistant; three Academy Training Representatives; and one Education Program Assistant.

(f) Up to 40 positions at the GS-13 through 15 grade levels and within authorized SL allocations necessary to support the following credit agency programs of the Department: the Federal Highway Administration's Transportation Infrastructure Finance and Innovation Act Program, the Federal Railroad Administration's Railroad Rehabilitation and Improvement Financing Program, the Federal Maritime Administration's Title XI Program, and the Office of the Secretary's Office of Budget and Programs Credit Staff. This authority may be used to make temporary, time-limited, or permanent appointments, as the DOT deems appropriate, in the following occupational series: Director or Deputy Director SL-301/340, Origination Team Lead SL-301, Deputy Director/Senior Financial Analyst GS-1160, Origination Financial Policy Advisor GS-301, Credit Budgeting Team Lead GS-1160, Credit Budgeting Financial Analysts GS-1160, Portfolio Monitoring Lead SL-1160, Portfolio Monitoring Financial Analyst GS-1160, Financial Analyst GS-1160. No new appointments may be made under this authority after December 31, 2014.

95. (Reserved)

Schedule B

03. Executive Office of the President (Sch. B, 213.3203)

(a) (Reserved)

(b) Office of the Special Representative for Trade Negotiations—

(1) Seventeen positions of economist at grades GS-12 through GS-15.

04. Department of State (Sch. B, 213.3204)

(a) (1) One non-permanent senior level position to serve as Science and Technology Advisor to the Secretary.

(b)-(c) (Reserved)

(d) Seventeen positions on the household staff of the President's Guest House (Blair and Blair-Lee Houses).

(e) (Reserved)

(f) Scientific, professional, and technical positions at grades GS-12 to GS-15 when filled by persons having special qualifications in foreign policy matters. Total employment under this authority may not exceed 4 years.

(g) Not to exceed 100 positions in the Bureau of Intelligence and Research (INR) at the GS-5 through GS-15 levels in the following occupational series GS-0080 Security Administration, GS-0110 Economics, GS-0130 Foreign Affairs, GS-0132 Intelligence, GS-0150 Geography, GS-0343 Management and Program Analysis, GS-1083 Technical Writing and Editing, GS-1370 Cartography, and GS-1530 Statistics. This authority may be used to make time-limited appointments of up to 48 months. No new appointments may be made after March 31, 2023 or when INR transitions to appointments under 50 U.S.C. 3024(v) whichever comes first.

05. Department of the Treasury (Sch. B, 213.3205)

(a) Positions of Deputy Comptroller of the Currency, Chief National Bank Examiner, Assistant Chief National Bank Examiner, Regional Administrator of National Banks, Deputy Regional Administrator of National Banks, Assistant to the Comptroller of the Currency, National Bank Examiner, Associate National Bank Examiner, and Assistant National Bank Examiner, whose salaries are paid from assessments against national banks and other financial institutions.

(b)-(c) (Reserved)

(d) (Reserved) Transferred to 213.3211(b)

(e) (Reserved) Transferred to 213.3210(f)

(f) (Reserved)

(g) (Reserved, moved to DOJ)

(h) Office of Financial Stability—

(1) Positions needed to perform investment, risk, financial, compliance, and asset management requiring unique qualifications currently not established by OPM. Positions will be in the Office of Financial Stability and the General Schedule (GS) grade levels 12-15 or Senior Level (SL), for initial employment not to exceed 4 years. No new appointments may be made under this authority after December 31, 2012.

(i) Office of the Special Inspector General for Pandemic Recovery

Temporary or time-limited positions at the GS level in the Office of the Special Inspector General for Pandemic Recovery. This authority may be used for the following occupational series: GS-1811 Special Agent, GS-18100 Investigator, GS-1805 Investigative Research/Analyst, GS-1801 Inspection/Investigative Analyst, GS-511 Auditor, GS-510 Accounting, GS-201 Human Resource Specialist, GS-343 Management Analyst, GS-301 Miscellaneous Administrative and Program, GS-2210 Information Technology, GS-1102 Contracting, GS-560 Budget Analyst, GS-1035 Public Affairs at the GS-9 through GS-15 levels. No new appointments may be made under this authority after December 14, 2025 or the termination of the SIGPR, whichever occurs first.

06. Department of Defense (Sch. B, 213.3206)

(a) Office of the Secretary—

(1) (Reserved)

(2) Professional positions at GS-11 through GS-15 involving systems, costs, and economic analysis functions in the Office of the Assistant Secretary (Program Analysis and Evaluation); and in the Office of the Deputy Assistant Secretary (Systems Policy and Information) in the Office of the Assistant Secretary (Comptroller).

(3)-(4) (Reserved)

(5) Four Net Assessment Analysts.

(b) Interdepartmental activities—

(1) Seven positions to provide general administration, general art and information, photography, and/or visual information support to the White House Photographic Service.

(2) Eight positions, GS-15 or below, in the White House Military Office, providing support for airlift operations, special events, security, and/or administrative services to the Office of the President.

(c) National Defense University—

(1) Sixty-one positions of Professor, GS-13/15, for employment of any one individual on an initial appointment not to exceed 3 years, which may be renewed in any increment from 1 to 6 years indefinitely thereafter.

(d) General—

(1) One position of Law Enforcement Liaison Officer (Drugs), GS-301-15, U.S. European Command.

(2) Acquisition positions at grades GS-5 through GS-11, whose incumbents have successfully completed the required course of education as participants in the Department of Defense scholarship program authorized under 10 U.S.C. 1744.

(e) Office of the Inspector General—

(1) Positions of Criminal Investigator, GS-1811-5/15.

(f) Department of Defense Polygraph Institute, Fort McClellan, Alabama—

(1) One Director, GM-15.

(g) Defense Security Assistance Agency—

All faculty members with instructor and research duties at the Defense Institute of Security Assistance Management, Wright Patterson Air Force Base, Dayton, Ohio. Individual appointments under this authority will be for an initial 3-year period, which may be followed by an appointment of indefinite duration.

07. Department of the Army (Sch. B, 213.3207)

(a) U.S. Army Command and General Staff College—

(1) Seven positions of professors, instructors, and education specialists. Total employment of any individual under this authority may not exceed 4 years.

08. Department of the Navy (Sch. B, 213.3208)

(a) Naval Underwater Systems Center, New London, Connecticut—

(1) One position of Oceanographer, grade GS-14, to function as project director and manager for research in the weapons systems applications of ocean eddies.

(b) Armed Forces Staff College, Norfolk, Virginia—All civilian faculty positions of professors, instructors, and teachers on the staff of the Armed Forces Staff College, Norfolk, Virginia.

(c) Defense Personnel Security Research and Education Center—One Director and four Research Psychologists at the professor or GS-15 level.

(d) Marine Corps Command and Staff College—All civilian professor positions.

(e) Executive Dining facilities at the Pentagon—One position of Staff Assistant, GS-301, whose incumbent will manage the Navy's Executive Dining facilities at the Pentagon.

(f) (Reserved)

09. Department of the Air Force (Sch. B, 213.3209)

(a) Air Research Institute at the Air University, Maxwell Air Force Base, Alabama—Not to exceed four interdisciplinary positions for the Air Research Institute at the Air University, Maxwell Air Force Base, Alabama, for employment to complete studies proposed by candidates and acceptable to the Air Force. Initial appointments are made not to exceed 3 years, with an option to renew or extend the appointments in increments of 1-, 2-, or 3- years indefinitely thereafter.

(b)-(c) (Reserved)

(d) Air University—Positions of Instructor or professional academic staff at the Air University associated with courses of instruction of varying durations, for employment not to exceed 3 years, which may be renewed for an indefinite period thereafter.

(e) U.S. Air Force Academy, Colorado—One position of Director of Development and Alumni Programs, GS-301-13.

10. Department of Justice (Sch. B, 213.3210)

(a) Drug Enforcement Administration—

Criminal Investigator (Special Agent) positions in the Drug Enforcement Administration. New appointments may be made under this authority only at grades GS-5 through 11. Service under the authority may not exceed 4 years. Appointments made under this authority may be converted to career or career-conditional appointments under the provisions of Executive Order 12230, subject to conditions agreed upon between the Department and OPM.

(b) (Reserved)

(c) Not to exceed 400 positions at grades GS-5 through 15 assigned to regional task forces established to conduct special investigations to combat drug trafficking and organized crime.

(d) (Reserved)

(e) United States Trustees—Positions, other than secretarial, GS-6 through GS-15, requiring knowledge of the bankruptcy process, on the staff of the offices of United States Trustees or the Executive Office for U.S. Trustees.

(f) Bureau of Alcohol, Tobacco, and Firearms

(1) Positions, grades GS-5 through GS-12 (or equivalent), of Criminal Investigator. Service under this authority may not exceed 3 years and 120 days.

11. Department of Homeland Security (Sch. B, 213.3211)

(a) Coast Guard.

(1) (Reserved)

(b) Secret Service—Positions concerned with the protection of the life and safety of the President and members of his immediate family, or other persons for whom similar protective services are prescribed by law, when filled in accordance with special appointment procedures approved by OPM. Service under this authority may not exceed:

(1) a total of 4 years; or

(2) 120 days following completion of the service required for conversion under Executive Order 11203.

13. Department of Agriculture (Sch. B, 213.3213)

(a) Foreign Agricultural Service—

(1) Positions of a project nature involved in international technical assistance activities. Service under this authority may not exceed 5 years on a single project for any individual unless delayed completion of a project justifies an extension up to but not exceeding 2 years.

(b) General—

(1) Temporary positions of professional Research Scientists, GS-15 or below, in the Agricultural Research Service, Economic Research Service, and the Forest Service, when such positions are established to support the Research Associateship Program and are filled by persons having a doctoral degree in an appropriate field of study for research activities of mutual interest to appointees and the agency. Appointments are limited to proposals approved by the appropriate Administrator. Appointments may be made for initial periods not to exceed 2 years and may be extended for up to 2 additional years. Extensions beyond 4 years, up to a maximum of 2 additional years, may be granted, but only in very rare and unusual circumstances, as determined by the Human Resources Officer for the Research, Education, and Economics Mission Area, or the Human Resources Officer, Forest Service.

(2) Not to exceed 55 Executive Director positions, GM-301-14/15, with the State Rural Development Councils in support of the Presidential Rural Development Initiative.

14. Department of Commerce (Sch. B, 213.3214)

(a) Bureau of the Census—

(1) (Reserved)

(2) Not to exceed 50 Community Services Specialist positions at the equivalent of GS-5 through 12.

(b)-(c) (Reserved)

(d) National Telecommunications and Information Administration—

(1) Not to exceed 10 Telecommunications Policy Analysts, grades GS-11 through 15. Employment under this authority may not exceed 2 years.

15. Department of Labor (Sch. B, 213.3215)

(a) Administrative Review Board—Chair and a maximum of four additional Members.

(b) (Reserved)

(c) Bureau of International Labor Affairs—

(1) Positions in the Office of Foreign Relations, which are paid by outside funding sources under contracts for specific international labor market technical assistance projects. Appointments under this authority may not be extended beyond the expiration date of the project.

17. Department of Education (Sch. B, 213.3217)

(a) Seventy-five positions, not to exceed GS-13, of a professional or analytical nature when filled by persons, other than college faculty members or candidates working toward college degrees, who are participating in mid-career development programs authorized by Federal statute or regulation, or sponsored by private nonprofit organizations, when a period of work experience is a requirement for completion of an organized study program. Employment under this authority shall not exceed 1 year.

(b) Fifty positions, GS-7 through GS-11, concerned with advising on education policies, practices, and procedures under unusual and abnormal conditions. Persons employed under this provision must be bona fide elementary school and high school teachers. Appointments under this authority may be made for a period of not to exceed 1 year, and may, with the prior approval of the Office of Personnel Management, be extended for an additional period of 1 year.

27. Department of Veterans Affairs (Sch. B, 213.3227)

(a) Not to exceed 800 principal investigatory, scientific, professional, and technical positions at grades GS-11 and above in the medical research program.

(b) Not to exceed 25 Criminal Investigator (Undercover) positions, GS-1811, in grades 5 through 12, conducting undercover investigations in the Veterans Health Administration (VA) supervised by the VA, Office of Inspector General. Initial appointments shall be greater than 1 year, but not to exceed 4 years and may be extended indefinitely in 1-year increments.

28. Broadcasting Board of Governors (Sch. B, 213.3228)

(a) International Broadcasting Bureau—

(1) Not to exceed 200 positions at grades GS-15 and below in the Office of Cuba Broadcasting. Appointments may not be made under this authority to administrative, clerical, and technical support positions.

36. U.S. Soldiers' and Airmen's Home (Sch. B, 213.3236)

(a) (Reserved)

(b) Director, Health Care Services; Director, Member Services; Director, Logistics; and Director, Plans and Programs.

40. National Archives and Records Administration (Sch. B, 213.3240)

(a) Executive Director, National Historical Publications and Records Commission.

48. National Aeronautics and Space Administration (Sch. B, 213.3248)

(a) Not to exceed 40 positions of Astronaut Candidates at grades GS-11 through 15. Employment under this authority may not exceed 3 years.

50. Consumer Financial Protection Bureau (Sch. B, 213.3250)

(a) One position of Deputy Director; and one position of Associate Director of the Division of Supervision, Enforcement, and Fair Lending.

55. Social Security Administration (Sch. B, 213.3255)

(a) (Reserved)

74. Smithsonian Institution (Sch. B, 213.3274)

(a) (Reserved)

(b) Freer Gallery of Art—

(1) Not to exceed four Oriental Art Restoration Specialists at grades GS-9 through GS-15.

76. Appalachian Regional Commission (Sch. B, 213.3276)

(a) Two Program Coordinators.

78. Armed Forces Retirement Home (Sch. B, 213.3278)

(a) Naval Home, Gulfport, Mississippi—

(1) One Resource Management Officer position and one Public Works Officer position, GS/GM-15 and below.

82. National Foundation on the Arts and the Humanities (Sch. B, 213.3282)

(a) (Reserved)

(b) National Endowment for the Humanities—

(1) Professional positions at grades GS-11 through GS-15 engaged in the review, evaluation, and administration of grants supporting scholarship, education, and public programs in the humanities, the duties of which require in-depth knowledge of a discipline of the humanities.

91. Office of Personnel Management (Sch. B, 213.3291)

(a) Not to exceed eight positions of Associate Director at the Executive Seminar Centers at grades GS-13 and GS-14. Appointments may be made for any period up to 3 years and may be extended without prior approval for any individual. Not more than half of the authorized faculty positions at any one Executive Seminar Center may be filled under this authority.

(b) Center for Leadership Development—No more than 72 positions of faculty members at grades GS-13 through GS-15. Initial appointments under this authority may be made for any period up to 3 years and may be extended in 1, 2, or 3 year increments.

Schedule C

Agency name | Organization name | Position title | Authorization No. | Effective date
DEPARTMENT OF AGRICULTURE | Rural Housing Service | Special Assistant | DA200027 | 07/06/2020
| Agricultural Marketing Service | Chief of Staff | DA200081 | 08/22/2020
|  | Senior Advisor for Fair and Competitive Markets | DA210086 | 02/12/2021
| Farm Service Agency | State Executive Director—Georgia | DA200096 | 07/27/2020
|  | Senior Policy Advisor | DA210079 | 02/04/2021
| Food and Nutrition Service | Senior Advisor for Technology and Delivery | DA210061 | 01/20/2021
| Foreign Agricultural Service | Policy Advisor | DA210089 | 02/23/2021
| Natural Resources Conservation Service | Chief of Staff | DA210108 | 05/06/2021
|  | Senior Advisor | DA210114 | 05/27/2021
| Office of Communications | Confidential Assistant | DA210060 | 01/20/2021
|  | Deputy Director of Communications | DA210071 | 01/29/2021
|  | Director of Scheduling and Advance | DA210059 | 01/20/2021
|  | Press Assistant | DA210123 | 06/23/2021
|  | Press Secretary | DA210101 | 04/23/2021
|  | Scheduler | DA210063 | 01/20/2021
|  | Speechwriter | DA210122 | 06/23/2021
| Office of Small and Disadvantaged Business Utilization | Director | DA160124 | 03/18/2021
| Office of the Assistant Secretary for Administration | Senior Advisor | DA210085 | 02/12/2021
| Office of the Assistant Secretary for Congressional Relations | Confidential Assistant (2) | DA210047 | 01/20/2021
|  |  | DA210048 | 01/20/2021
|  | Legislative Director | DA210064 | 01/20/2021
|  | Legislative Analyst | DA210070 | 02/01/2021
|  | Legislative Advisor (2) | DA210104 | 04/29/2021
|  |  | DA210105 | 05/03/2021
| Office of the Chief Financial Officer | Confidential Assistant | DA200125 | 09/11/2020
| Office of the Chief Information Officer | Senior Advisor for Data and Technology | DA210112 | 05/14/2021
| Office of the Deputy Secretary | Special Assistant | DA210109 | 05/06/2021
| Office of the Secretary | Advance Lead | DA210113 | 05/27/2021
|  | Deputy Director of Scheduling and Advance | DA210110 | 05/06/2021
|  | Deputy White House Liaison (2) | DA200154 | 10/20/2020
|  |  | DA210065 | 01/20/2021
|  | Senior Advisor (2) | DA210056 | 01/20/2021
|  |  | DA210057 | 01/20/2021
|  | White House Liaison | DA210041 | 01/20/2021
| Office of the Under Secretary for Farm Production and Conservation | Confidential Assistant | DA210046 | 01/20/2021
|  | Senior Advisor | DA210055 | 01/20/2021
| Office of the Under Secretary for Food, Nutrition and Consumer Services | Confidential Assistant | DA210120 | 06/11/2021
| Office of the Under Secretary for Rural Development | Senior Advisor | DA210058 | 01/20/2021
| Rural Business Service | Chief of Staff | DA210062 | 01/20/2021
| Rural Development | Special Assistant | DA210124 | 06/23/2021
| Rural Housing Service | Chief of Staff | DA210067 | 01/20/2021
| Rural Utilities Service | Senior Policy Advisor | DA210080 | 02/04/2021
APPALACHIAN REGIONAL COMMISSION | Appalachian Regional Commission | Executive Assistant | AP210001 | 06/30/2021
UNITED STATES AGENCY FOR GLOBAL MEDIA | United States Agency for Global Media | Special Assistant and Director of Executive Office Operations | IB200007 | 09/02/2020
|  | Principal Director of Public Affairs | IB200004 | 09/11/2020
|  | Principal Director Office of Contracts | IB200009 | 09/29/2020
DEPARTMENT OF COMMERCE | Bureau of Industry and Security | Chief of Staff | DC210070 | 01/26/2021
|  | Congressional Affairs Specialist | DC210066 | 01/20/2021
|  | Deputy Chief of Staff | DC200082 | 12/09/2020
|  | Senior Advisor | DC210040 | 01/20/2021
|  | Special Advisor | DC200104 | 08/12/2020
| Bureau of the Census | Chief of Congressional Affairs | DC210061 | 01/20/2021
| Office of the Assistant Secretary for United States Field | Senior Advisor | DC200156 | 07/28/2020
| Office of Economic Development Administration | Director of Public Affairs | DC210045 | 01/20/2021
| Immediate Office | Senior Advisor to the Chief of Staff | DC200135 | 07/31/2020
|  | Executive Assistant to the Secretary and Director of the Office of the Secretary | DC210081 | 02/05/2021
|  | Senior Advisor (Upskilling and Broadband) | DC210076 | 02/10/2021
| International Trade Administration | Senior Advisor | DC200137 | 07/15/2020
|  | Press Secretary | DC200181 | 09/21/2020
| Minority Business Development Agency | Advisor | DC200151 | 10/29/2020
|  | Senior Advisor (2) | DC200155 | 07/20/2020
|  |  | DC210020 | 12/07/2020
|  |  | DC210130 | 05/20/2021
| National Oceanic and Atmospheric Administration | Deputy Assistant Secretary | DC200175 | 09/03/2020
|  | Special Assistant | DC210047 | 01/20/2021
| National Telecommunications and Information Administration | Senior Advisor | DC210145 | 06/03/2021
| Office of Advance, Scheduling and Protocol | Scheduler | DC210079 | 02/05/2021
|  | Deputy Director of Advance | DC210146 | 06/11/2021
| Office of Business Liaison | Special Assistant | DC210093 | 03/26/2021
|  | Deputy Director | DC210102 | 04/09/2021
| Office of Executive Secretariat | Associate Director | DC210021 | 12/07/2020
| Office of Legislative and Intergovernmental Affairs | Confidential Assistant (2) | DC210013 | 11/20/2020
|  |  | DC210048 | 01/20/2021
|  | Director for Oversight | DC210057 | 01/26/2021
|  | Director of Legislative and Intergovernmental Affairs (2) | DC210067 | 01/26/2021
|  |  | DC210088 | 03/09/2021
|  | Special Assistant | DC210155 | 06/23/2021
| Office of Policy and Strategic Planning | Deputy Director | DC210086 | 02/10/2021
|  | Policy Advisor (2) | DC210049 | 01/20/2021
|  |  | DC210083 | 02/05/2021
|  | Senior Advisor | DC210087 | 02/25/2021
|  | Senior Policy Advisor | DC210157 | 06/23/2021
|  | Special Assistant | DC210114 | 05/06/2021
| Office of Public Affairs | Deputy Director of Public Affairs and Director of Digital Strategy and Engagement | DC210069 | 01/26/2021
|  | Deputy Director of Public Affairs and Director of Speechwriting | DC210106 | 04/29/2021
|  | Deputy Director of Public Affairs and Press Secretary | DC210051 | 01/20/2021
|  | Deputy Speech Writer | DC210001 | 10/05/2020
|  | Director of the Office of Public Affairs | DC210065 | 01/20/2021
|  | Press Assistant | DC210050 | 01/20/2021
| Office of the Assistant Secretary for Economic Development | Chief of Staff for Economic Development | DC210103 | 04/02/2021
|  | Special Advisor | DC210113 | 05/06/2021
| Office of the Chief Financial Officer and Assistant Secretary for Administration | Confidential Assistant | DC200147 | 09/11/2020
|  | Special Assistant | DC200187 | 09/21/2020
| Office of the Chief of Staff | Confidential Assistant | DC210096 | 03/26/2021
|  | Director of Scheduling and Advance | DC210092 | 03/18/2021
|  | Director, Center for Faith and Opportunity Initiatives | DC200129 | 10/13/2020
|  | Senior Advisor (2) | DC210117 | 05/06/2021
|  |  | DC210129 | 05/20/2021
|  | Special Assistant (2) | DC210109 | 04/26/2021
|  |  | DC210104 | 04/09/2021
| Office of the Deputy Secretary | Advisor | DC200153 | 01/08/2021
|  | Special Assistant (2) | DC210080 | 02/05/2021
|  |  | DC210094 | 03/26/2021
|  | Senior Advisor | DC210110 | 04/29/2021
| Office of the Director | Senior Advisor | DC210063 | 01/20/2021
| Office of the General Counsel | Senior Counsel | DC200128 | 07/23/2020
|  | Special Assistant | DC210052 | 01/20/2021
|  | Deputy General Counsel for Strategic Initiatives | DC210100 | 04/02/2021
| Office of the Secretary | Special Assistant (2) | DC210091 | 03/18/2021
|  |  | DC210115 | 05/20/2021
| Office of the Under Secretary | Special Assistant | DC210046 | 01/20/2021
|  | Senior Advisor (2) | DC210058 | 01/26/2021
|  |  | DC210056 | 01/20/2021
| Office of the White House Liaison | Senior Advisor to the Secretary (Covid) | DC210041 | 01/20/2021
|  | Senior Advisor to the Secretary (Delivery) | DC210060 | 01/20/2021
|  | Deputy White House Liaison | DC210071 | 01/29/2021
|  | Special Assistant | DC210128 | 05/20/2021
COMMISSION ON CIVIL RIGHTS | Office of Staff Members | Special Assistant to the Commissioner | CC200001 | 08/07/2020
| Office of Commissioners | Special Assistant (2) | CC200002 | 08/07/2020
|  |  | CC200003 | 09/11/2020
| Commission on Civil Rights | Special Assistant to the Commissioner | CC210001 | 04/09/2021
CONSUMER FINANCIAL PROTECTION BUREAU | Office of the Director | Deputy Director | FP210002 | 07/07/2020
CONSUMER PRODUCT SAFETY COMMISSION | Office of Commissioners | Special Assistant (Legal) | PS210001 | 05/17/2021
COUNCIL ON ENVIRONMENTAL QUALITY | Council on Environmental Quality | Scheduler | EQ210001 | 01/22/2021
|  | Special Assistant (2) | EQ200001 | 09/09/2020
|  |  | EQ210002 | 01/26/2021
DEPARTMENT OF DEFENSE | Office of the Assistant Secretary of Defense (Legislative Affairs) | Special Assistant (8) | DD200222 | 08/31/2020
|  |  | DD200240 | 09/03/2020
|  |  | DD200268 | 11/24/2020
|  |  | DD210132 | 01/23/2021
|  |  | DD210148 | 01/28/2021
|  |  | DD210191 | 02/12/2021
|  |  | DD210193 | 02/12/2021
|  |  | DD210236 | 06/08/2021
| Office of the Assistant to the Secretary of Defense (Public Affairs) | Chief of Staff | DD210133 | 01/23/2021
|  | Speechwriter (3) | DD210175 | 02/02/2021
|  |  | DD210205 | 02/25/2021
|  |  | DD210159 | 01/28/2021
|  | Director of Digital Media | DD210173 | 02/02/2021
|  | Deputy Director of Speechwriting | DD210241 | 06/17/2021
|  | Deputy Press Secretary | DD210204 | 02/18/2021
|  | Research Assistant | DD210199 | 02/18/2021
| Department of Defense Chief Information Officer | Director, Chief Information Officer Action Group | DD210239 | 06/08/2021
| Office of the Secretary | Advance Officer | DD200202 | 07/02/2020
| Office of the Secretary of Defense | Advance Officer | DD210158 | 01/28/2021
|  | Confidential Assistant | DD210152 | 01/28/2021
|  | Defense Fellow | DD210028 | 12/11/2020
|  | Deputy Director of Protocol | DD210194 | 02/12/2021
|  | Deputy White House Liaison (2) | DD210003 | 10/13/2020
|  |  | DD210210 | 03/10/2021
|  | Director, Travel Operations | DD210219 | 04/02/2021
|  | Protocol Officer (2) | DD210151 | 01/27/2021
|  |  | DD210147 | 01/28/2021
|  | Special Assistant (6) | DD210112 | 01/23/2021
|  |  | DD210155 | 01/28/2021
|  |  | DD210178 | 02/02/2021
|  |  | DD210186 | 02/12/2021
|  |  | DD210200 | 02/18/2021
|  |  | DD210201 | 05/11/2021
| Office of the Under Secretary of Defense (Acquisition and Sustainment) | Special Assistant (7) | DD200218 | 08/06/2020
|  |  | DD200231 | 08/25/2020
|  |  | DD200271 | 09/26/2020
|  |  | DD210170 | 02/02/2021
|  |  | DD210174 | 02/02/2021
|  |  | DD210189 | 02/12/2021
|  |  | DD210192 | 02/12/2021
| Office of the Under Secretary of Defense (Comptroller) | Special Assistant | DD200266 | 09/29/2020
| Office of the Under Secretary of Defense (Personnel and Readiness) | Director of Communications to the Under Secretary of Defense for Personnel and Readiness | DD200196 | 07/10/2020
|  | Special Assistant (3) | DD200247 | 09/11/2020
|  |  | DD210177 | 02/02/2021
|  |  | DD210185 | 05/27/2021
| Office of the Under Secretary of Defense (Policy) | Chief of Staff for Assistant Secretary of Defense (Special Operations/Low-Intensity Conflict) | DD210237 | 06/08/2021
|  | Senior Advisor to the Assistant Secretary of Defense (Strategy, Plans and Capabilities) (Climate) | DD210234 | 05/25/2021
|  | Special Assistant (18) | DD200206 | 07/27/2020
|  |  | DD200245 | 08/25/2020
|  |  | DD200255 | 09/10/2020
|  |  | DD200260 | 09/11/2020
|  |  | DD210019 | 11/20/2020
|  |  | DD210039 | 12/16/2020
|  |  | DD210129 | 01/23/2021
|  |  | DD210116 | 01/24/2021
|  |  | DD210163 | 01/28/2021
|  |  | DD210164 | 01/28/2021
|  |  | DD210172 | 02/02/2021
|  |  | DD210180 | 02/02/2021
|  |  | DD210202 | 02/18/2021
|  |  | DD210222 | 04/09/2021
|  |  | DD210228 | 05/10/2021
|  |  | DD210227 | 05/11/2021
|  |  | DD210240 | 06/13/2021
|  |  | DD210243 | 06/30/2021
| Office of the Under Secretary of Defense (Research and Engineering) | Special Assistant | DD210149 | 01/27/2021
| Washington Headquarters Services | Defense Fellow (3) | DD200229 | 08/14/2020
|  |  | DD200228 | 08/20/2020
|  |  | DD200269 | 09/21/2020
|  | Senior Director (2) | DD210134 | 04/15/2021
|  |  | DD210198 | 04/15/2021
|  | Chief of Staff | DD210229 | 05/19/2021
DEPARTMENT OF THE AIR FORCE | Office of Assistant Secretary Air Force, Installations, Environment, and Energy | Special Assistant (2) | DF200014 | 09/19/2020
|  |  | DF200017 | 09/30/2020
| Office of the General Counsel | Special Assistant | DF200016 | 09/18/2020
|  | Attorney Advisor/Special Assistant | DF210007 | 02/16/2021
| Office of the Secretary | Special Assistant (2) | DF210005 | 12/16/2020
|  |  | DF210008 | 02/16/2021
| Office of the Under Secretary | Special Assistant | DF210009 | 02/16/2021
DEPARTMENT OF THE ARMY | Office Assistant Secretary Army (Acquisition, Logistics and Technology) | Special Assistant to the Deputy Assistant Secretary of the Army (Strategy and Acquisition Reform) | DW200042 | 07/15/2020
| Office Assistant Secretary Army (Civil Works) | Special Assistant to the Principal Deputy Assistant Secretary of the Army (Civil Works) | DW200035 | 08/06/2020
|  | Special Assistant to the Assistant Secretary of the Army (Civil Works) | DW210010 | 02/11/2021
| Office Assistant Secretary Army (Manpower and Reserve Affairs) | Special Assistant to the Principal Deputy Assistant Secretary of the Army (Manpower and Reserve Affair) | DW200047 | 12/19/2020
| Office Deputy Under Secretary of Army | Special Assistant to the Deputy Under Secretary of the Army | DW200046 | 10/13/2020
| Office of the General Counsel | Attorney Advisor to the Army General Counsel | DW210009 | 02/11/2021
| Office of the Secretary | Special Assistant to the Chief of Staff, Secretary of the Army | DW210011 | 02/11/2021
DEPARTMENT OF THE NAVY | Office of the General Counsel | Attorney-Advisor (General) | DN210011 | 01/20/2021
| Office of the Secretary of the Navy | Deputy Chief of Staff | DN200057 | 09/16/2020
|  | Special Assistant (2) | DN210014 | 01/20/2021
|  |  | DN210016 | 02/05/2021
| Office of the Under Secretary of the Navy | Special Assistant | DN200032 | 07/02/2020
|  | Residential Manager and Social Secretary for the Vice President | DN210012 | 01/28/2021
DEPARTMENT OF EDUCATION | Office for Civil Rights | Chief of Staff | DB210042 | 01/22/2021
|  | Confidential Assistant | DB210086 | 04/16/2021
|  | Senior Counsel (2) | DB210025 | 01/20/2021
|  |  | DB210097 | 05/13/2021
| Office of Career Technical and Adult Education | Special Assistant (2) | DB210101 | 05/24/2021
|  |  | DB210108 | 06/02/2021
| Office of Communications and Outreach | Chief of Staff | DB210103 | 06/08/2021
|  | Confidential Assistant (3) | DB200065 | 07/02/2020
|  |  | DB210076 | 03/25/2021
|  |  | DB210077 | 03/31/2021
|  | Managing Writer | DB210098 | 06/01/2021
|  | Press Secretary | DB210061 | 02/11/2021
|  | Senior Director of Digital Strategy | DB210063 | 02/16/2021
|  | Special Assistant (4) | DB210006 | 11/15/2020
|  |  | DB210046 | 01/29/2021
|  |  | DB210056 | 02/11/2021
|  |  | DB210099 | 05/24/2021
| Office of Elementary and Secondary Education | Chief of Staff | DB210055 | 02/04/2021
|  | Confidential Assistant | DB210092 | 04/27/2021
|  | Special Assistant (2) | DB210066 | 02/23/2021
|  |  | DB210104 | 06/07/2021
| Office of Legislation and Congressional Affairs | Chief of Staff | DB210035 | 02/04/2021
|  | Confidential Assistant | DB210088 | 04/16/2021
|  | Senior Advisor | DB200071 | 09/24/2020
|  | Special Assistant (3) | DB210026 | 01/20/2021
|  |  | DB210089 | 04/28/2021
|  |  | DB210094 | 04/29/2021
| Office of Planning, Evaluation and Policy Development | Chief of Staff | DB210058 | 02/19/2021
|  | Confidential Assistant | DB210087 | 04/16/2021
|  | Deputy Director, Office of Educational Technology | DB200068 | 08/17/2020
|  | Special Assistant (3) | DB210047 | 01/29/2021
|  |  | DB210049 | 01/29/2021
|  |  | DB210054 | 02/04/2021
| Office of Postsecondary Education | Chief of Staff | DB210027 | 01/20/2021
|  | Special Assistant | DB210030 | 01/20/2021
|  | Senior Advisor | DB210106 | 06/07/2021
| Office of Special Education and Rehabilitative Services | Special Assistant | DB210073 | 02/18/2021
| Office of the General Counsel | Deputy General Counsel | DB200069 | 08/14/2020
|  | Confidential Assistant | DB210001 | 10/09/2020
|  | Senior Counsel (5) | DB210034 | 01/20/2021
|  |  | DB210044 | 01/29/2021
|  |  | DB210045 | 01/30/2021
|  |  | DB210096 | 05/06/2021
|  |  | DB210112 | 06/25/2021
| Office of the Secretary | Confidential Assistant (3) | DB210052 | 02/01/2021
|  |  | DB210070 | 02/18/2021
|  |  | DB210074 | 02/26/2021
|  | Deputy Chief of Staff (2) | DB210060 | 02/12/2021
|  |  | DB210072 | 02/18/2021
|  | Deputy Director of Scheduling | DB210093 | 04/28/2021
|  | Deputy White House Liaison | DB210051 | 02/01/2021
|  | Director of Advance | DB210071 | 02/18/2021
|  | Director of Scheduling | DB210095 | 05/03/2021
|  | Director, White House Liaison | DB210022 | 01/20/2021
|  | Senior Advisor (3) | DB210081 | 04/02/2021
|  |  | DB210105 | 06/07/2021
|  |  | DB210111 | 06/15/2021
|  | Senior Advisor to the Chief of Staff | DB210033 | 01/20/2021
|  | Special Assistant (2) | DB210082 | 04/13/2021
|  |  | DB210083 | 04/13/2021
| Office of the Under Secretary | Chief of Staff | DB210041 | 01/22/2021
|  | Confidential Assistant (2) | DB210059 | 02/11/2021
|  |  | DB210084 | 04/16/2021
|  | Special Assistant | DB210085 | 04/16/2021
DEPARTMENT OF ENERGY | Office of the Advanced Research Projects Agency—Energy | Deputy Chief of Staff | DE200191 | 09/26/2020
|  | Special Assistant | DE210108 | 06/03/2021
| Office of the Assistant Secretary for Congressional and Intergovernmental Affairs | Associate Deputy Assistant Secretary for House Affairs | DE200149 | 12/16/2020
|  | Associate Deputy Assistant Secretary for Intergovernmental and External Affairs | DE200146 | 08/22/2020
|  | Deputy Assistant Secretary for House Affairs | DE210090 | 03/22/2021
|  | Deputy Assistant Secretary for Intergovernmental Affairs | DE210098 | 04/23/2021
|  | Deputy Assistant Secretary for Senate Affairs | DE200112 | 08/06/2020
|  | Legislative Affairs Advisor (3) | DE210137 | 05/09/2021
|  |  | DE200137 | 11/20/2020
|  |  | DE200147 | 11/20/2020
|  | Legislative Affairs Assistant | DE200139 | 07/06/2020
|  | Special Advisor | DE200148 | 11/20/2020
|  | Special Assistant | DE210149 | 05/19/2021
| Office of the Assistant Secretary for Electricity | Chief of Staff | DE210138 | 05/12/2021
| Office of the Assistant Secretary for Energy Efficiency and Renewable Energy | Chief of Staff | DE210119 | 06/03/2021
|  | Deputy Chief of Staff (2) | DE200204 | 10/05/2020
|  |  | DE210152 | 05/20/2021
|  | Program Manager | DE200179 | 08/07/2020
|  | Senior Advisor | DE210113 | 06/03/2021
|  | Special Assistant | DE210120 | 05/19/2021
| Office of the Assistant Secretary for Environmental Management | Special Advisor for Communications (2) | DE200128 | 09/19/2020
|  |  | DE210003 | 09/19/2020
| Office of the Assistant Secretary for Fossil Energy | Special Assistant | DE210107 | 05/19/2021
|  | Chief of Staff | DE210105 | 06/03/2021
| Office of the Assistant Secretary for International Affairs | Chief of Staff | DE210148 | 05/13/2021
|  | Deputy Chief of Staff | DE200151 | 12/19/2020
|  | Senior Advisor | DE200200 | 09/29/2020
|  | Special Advisor | DE200150 | 08/07/2020
|  | Special Assistant | DE210121 | 05/19/2021
| Office of the Assistant Secretary for Nuclear Energy | Special Advisor | DE200134 | 11/20/2020
| Office of Artificial Intelligence and Technology | Chief of Staff | DE200145 | 09/19/2020
| Office of Cybersecurity, Energy Security and Emergency Response | Senior Advisor | DE200183 | 08/22/2020
|  | Chief of Staff | DE200197 | 09/24/2020
| Office of Economic Impact and Diversity | Senior Advisor for Small Business | DE210016 | 11/25/2020
| Office of General Counsel | Attorney-Advisor | DE200162 | 07/02/2020
|  | Legal Advisor | DE210104 | 06/03/2021
| Office of Management | Advance Lead | DE200133 | 08/06/2020
|  | Deputy Director of Operations for Advance | DE200172 | 01/14/2021
|  | Director of External Operations | DE200173 | 01/14/2021
|  | Director of Operations for Public Engagement | DE200174 | 12/19/2020
|  | Scheduler | DE210145 | 05/19/2021
|  | Senior Advisor | DE200195 | 10/02/2020
|  | Special Assistant (2) | DE200202 | 09/30/2020
|  |  | DE210124 | 05/19/2021
| Office of Policy | Special Assistant | DE210139 | 05/20/2021
| Office of Public Affairs | Copy Editor | DE200152 | 11/20/2020
|  | Deputy Director | DE210147 | 05/13/2021
|  | Deputy Press Secretary | DE210099 | 04/27/2021
|  | Press Assistant | DE200140 | 07/31/2020
|  | Press Secretary (2) | DE200129 | 09/24/2020
|  |  | DE210128 | 05/19/2021
|  | Principal Deputy Press Secretary | DE200131 | 12/16/2020
|  | Speechwriter (2) | DE210091 | 03/10/2021
|  |  | DE210144 | 05/12/2021
|  | Writer-Editor (Senior Speechwriter) | DE200084 | 07/02/2020
| Office of Science | Chief of Staff | DE200144 | 12/16/2020
| Office of Strategic Planning and Policy | Special Assistant | DE200135 | 12/19/2020
| Office of Technology Transition | Senior Advisor | DE200136 | 11/20/2020
| Office of the Deputy Secretary | Special Assistant | DE210125 | 06/03/2021
| Office of the Secretary | Deputy Chief of Staff | DE210092 | 03/12/2021
|  | Deputy White House Liaison(2) | DE210002 | 10/05/2020
|  |  | DE210115 | 05/19/2021
|  | Special Advisor | DE200108 | 08/07/2020
|  | Special Assistant to the Secretary | DE210111 | 05/19/2021
|  | Special Assistant to the White House Liaison | DE200196 | 09/24/2020
|  | White House Liaison(2) | DE200198 | 09/24/2020
|  |  | DE210101 | 05/19/2021
| Office of the Secretary of Energy Advisory Board | Deputy Director | DE200171 | 09/19/2020
| Office of the Under Secretary for Science | Special Assistant | DE210129 | 05/19/2021
ENVIRONMENTAL PROTECTION AGENCY | Office of Public Affairs | Deputy Associate Administrator for Policy | EP200109 | 10/17/2020
|  | Press Assistant | EP200089 | 08/22/2020
|  | Public Affairs Specialist (2) | EP210084 | 02/10/2021
|  |  | EP210089 | 05/16/2021
|  | Special Advisor for Digital Media | EP200100 | 09/24/2020
|  | Special Advisor for Digital Strategy | EP210086 | 03/24/2021
|  | Writer-Editor (Speechwriter) | EP210074 | 02/26/2021
| Office of Public Engagement and Environmental Education | Deputy Associate Administrator for Public Engagement and Environmental Education (2) | EP210093 | 06/08/2021
|  |  | EP200114 | 09/24/2020
|  | Senior Advisor for the Office of Public Engagement and Environmental Education | EP210009 | 01/05/2021
|  | Special Assistant | EP210077 | 02/25/2021
| Office of the Administrator | Advance Specialist | EP210076 | 02/04/2021
|  | Deputy Chief of Staff for Operations | EP210049 | 02/03/2021
|  | Deputy Director for Scheduling and Advance | EP210088 | 04/27/2021
|  | Deputy White House Liaison | EP210051 | 02/03/2021
|  | Director of Scheduling and Advance | EP210050 | 02/03/2021
|  | Senior Advisor to the Administrator | EP200102 | 10/02/2020
|  | Senior Assistant to the Deputy Administrator | EP210010 | 01/05/2021
|  | Special Advisor | EP200095 | 09/11/2020
|  | Special Advisor for Logistics | EP200066 | 09/16/2020
|  | Special Advisor to the Chief of Staff | EP210007 | 12/09/2020
|  | Special Assistant | EP210073 | 02/04/2021
|  | Special Assistant to the Administrator | EP210024 | 02/01/2021
|  | White House Liaison (2) | EP210001 | 10/02/2020
|  |  | EP210013 | 02/01/2021
| Office of the Assistant Administrator for Administration and Resources Management | Deputy Assistant Administrator for the Office of Mission Support | EP200085 | 08/06/2020
| Office of the Assistant Administrator for Air and Radiation | Senior Advisor to the Administrator on Transportation and Air Quality | EP200099 | 08/06/2020
|  | Special Assistant | EP210072 | 02/04/2021
| Office of the Assistant Administrator for Chemical Safety and Pollution Prevention | Public Liaison | EP200086 | 07/31/2020
|  | Deputy Assistant Administrator for Pesticide Programs | EP210091 | 06/07/2021
| Office of the Assistant Administrator for Land and Emergency Management | Senior Policy Advisor | EP200110 | 09/26/2020
|  | Special Assistant | EP210075 | 02/04/2021
| Office of the Assistant Administrator for Mission Support | Senior Advisor | EP200119 | 10/09/2020
| Office of the Assistant Administrator for Research and Development | Policy Assistant | EP200077 | 01/08/2021
| Office of the Assistant Administrator for Water | Special Assistant | EP210083 | 02/04/2021
|  | Senior Advisor | EP210092 | 06/08/2021
| Office of the Associate Administrator for Congressional and Intergovernmental Relations | Assistant Deputy Associate Administrator for Senate Affairs | EP200090 | 10/02/2020
|  | Congressional Relations Specialist | EP200080 | 08/22/2020
|  | Deputy Associate Administrator for Congressional Affairs | EP210016 | 01/30/2021
|  | Deputy Associate Administrator for Intergovernmental Affairs | EP210014 | 02/01/2021
|  | Special Advisor for Senate Affairs | EP200082 | 01/05/2021
|  | Special Advisor to the Office of Congressional and Intergovernmental Relations | EP200068 | 09/24/2020
| Office of the Associate Administrator for Policy | Policy Advisor | EP200083 | 07/31/2020
|  | Special Assistant | EP210070 | 02/04/2021
|  | Deputy Associate Administrator for Policy | EP210090 | 05/17/2021
| Office of the Executive Secretariat | Director | EP210087 | 04/27/2021
| Office of the General Counsel | Special Advisor | EP200116 | 10/02/2020
|  | Attorney-Advisor (General) | EP210094 | 06/08/2021
| Region VI—Dallas, Texas | Special Assistant | EP200094 | 08/22/2020
EXPORT-IMPORT BANK | Office of Congressional and Intergovernmental Affairs | Senior Vice President, Congressional and Intergovernmental Affairs | EB210004 | 01/20/2021
| Office of the Chairman | Director of Scheduling | EB210006 | 01/20/2021
|  | Executive Secretary | EB210007 | 01/20/2021
FEDERAL COMMUNICATIONS COMMISSION | Office of Media Relations | Press Secretary | FC210005 | 03/25/2021
FEDERAL ENDERGY REGULATORY COMMISSION | Federal Energy Regulatory Commission | Confidential Assistant | DR210001 | 12/29/2020
| Office of the Commissioner | Confidential Assistant | DR210005 | 04/02/2021
|  | Attorney Advisor | DR210006 | 04/07/2021
| Office of External Affairs | Senior Public Affairs Specialist | DR210007 | 04/30/2021
FEDERAL HOUSING FINANCE AGENCY | Office of Director | Special Advisor | HA200004 | 08/13/2020
FEDERAL MINE SAFETY AND HEALTH REVIEW COMMISSION | Federal Mine Safety and Health Review Commission | Confidential Assistant | FR210001 | 05/18/2021
| Office of the Chairman | Confidential Assistant | FR210002 | 05/28/2021
FEDERAL TRADE COMMISSION | Office of the Chair | Director, Office of Public Affairs | FT210007 | 03/15/2021
GENERAL SERVICES ADMINISTRATION | National Capital Region | Confidential Assistant to the Regional Administrator | GS200041 | 07/27/2020
| Office of Congressional and Intergovernmental Affairs | Congressional Policy Analyst | GS200040 | 08/07/2020
|  | Policy Advisor (2) | GS210028 | 02/01/2021
|  |  | GS210030 | 02/12/2021
| Office of Strategic Communication | Director of Public Engagement | GS210023 | 01/20/2021
|  | Press Secretary | GS210036 | 06/16/2021
| Office of the Administrator | Deputy White House Liaison and Senior Advisor to the Deputy Administrator | GS200045 | 09/29/2020
|  | Executive Assistant to the Deputy Administrator | GS210002 | 11/20/2020
|  | Senior Advisor to the Administrator | GS210026 | 01/25/2021
|  | Senior Advisor to the Administrator (Climate) | GS210022 | 01/20/2021
|  | Senior Advisor to the Administrator (Equity) | GS210033 | 05/14/2021
|  | Senior Advisor to the Administrator (Technology) | GS210024 | 01/20/2021
|  | Senior Advisor to the Deputy Administrator | GS210031 | 02/12/2021
|  | Special Assistant | GS210035 | 06/09/2021
|  | White House Liaison | GS210032 | 02/12/2021
DEPARTMENT OF HEALTH AND HUMAN SERVICES | Office of Administration for Children and Families | Senior Advisor | DH210158 | 04/05/2021
| Centers for Disease Control and Prevention | Special Assistant | DH200173 | 08/31/2020
|  | Senior Advisor | DH210153 | 04/01/2021
| Centers for Medicare and Medicaid Services | Policy Advisor | DH210195 | 06/22/2021
| Office of Health Resources and Services Administration | Special Assistant | DH210174 | 05/04/2021
| Office of Indian Health Service | Senior Advisor to the Director | DH210073 | 02/02/2021
| Office for Civil Rights | Senior Advisor | DH210125 | 02/17/2021
|  | Executive Director, White House Initiative on Asian Americans, Native Hawaiians, and Pacific Island | DH210193 | 06/22/2021
|  | Special Assistant | DH210197 | 06/22/2021
| Office of Global Affairs | Chief of Staff | DH200186 | 10/16/2020
|  | Special Assistant to the Director | DH210076 | 02/02/2021
|  | Senior Advisor, Human Rights and Gender Equity | DH210141 | 03/03/2021
| Office of Intergovernmental and External Affairs | Confidential Assistant | DH210106 | 02/12/2021
|  | Director of External Affairs | DH210157 | 04/08/2021
|  | External Affairs Specialist | DH200164 | 08/22/2020
|  | Senior Advisor, Center for Faith-Based and Neighborhood Partnerships | DH200136 | 07/19/2020
|  | Senior Advisor, Equity Taskforce | DH210124 | 02/17/2021
|  | Special Assistant | DH210176 | 05/04/2021
| Office of Refugee Resettlement/Office of the Director | Chief of Staff | DH210112 | 02/12/2021
|  | Confidential Assistant | DH210004 | 10/17/2020
|  | Special Assistant (2) | DH210003 | 10/17/2020
|  |  | DH210105 | 02/12/2021
| Office of the Assistant Secretary for Administration | Special Assistant | DH210097 | 02/05/2021
| Office of the Assistant Secretary for Health | Deputy Chief of Staff | DH200142 | 07/02/2020
|  | Policy Advisor | DH200184 | 10/09/2020
|  | Senior Advisor and Director of Scheduling and Advance | DH210114 | 02/12/2021
|  | Special Advisor to the Surgeon General | DH210130 | 02/17/2021
|  | Senior Advisor for Health Equity and Climate (2) | DH210159 | 04/05/2021
|  |  | DH210161 | 04/08/2021
| Office of the Assistant Secretary for Legislation | Advisor (2) | DH210027 | 12/16/2020
|  |  | DH210028 | 12/16/2020
|  | Deputy Assistant Secretary for Legislation, Discretionary Health | DH210029 | 12/16/2020
|  | Director of Congressional Liaison | DH210025 | 12/17/2020
|  | Special Assistant | DH210108 | 02/12/2021
|  | Senior Advisor and Congressional Liaison | DH210177 | 05/04/2021
| Office of the Assistant Secretary for Preparedness and Response | Confidential Assistant | DH200151 | 07/27/2020
|  | Special Assistant | DH200150 | 07/31/2020
|  | Special Assistant Covid Response (2) | DH210121 | 02/17/2021
|  |  | DH210142 | 03/03/2021
|  | Senior Policy Advisor, Covid Response | DH210148 | 03/04/2021
| Office of the Assistant Secretary for Public Affairs | Chief Communications Officer | DH210031 | 12/16/2020
|  | Deputy Director for Strategic Communications | DH210032 | 12/16/2020
|  | Deputy Speechwriter | DH210139 | 03/03/2021
|  | Director of Digital Engagement | DH210160 | 04/05/2021
|  | Director of Speechwriting | DH210175 | 05/06/2021
|  | National Press Secretary (Covid) | DH210116 | 02/12/2021
|  | Press Assistant | DH210095 | 02/05/2021
|  | Press Secretary (2) | DH210026 | 12/16/2020
|  |  | DH210096 | 02/05/2021
| Office of the Commissioner | Advisor | DH210014 | 11/23/2020
| Office of the Deputy Secretary | Deputy Chief of Staff | DH200091 | 07/19/2020
|  | Special Assistant | DH200127 | 08/07/2020
| Office of the National Coordinator for Health Information Technology | Special Assistant | DH210074 | 02/02/2021
| Office of the Secretary | Advance Representative (3) | DH200134 | 07/02/2020
|  |  | DH210178 | 05/06/2021
|  |  | DH210179 | 05/06/2021
|  | Advisor | DH210030 | 12/16/2020
|  | Deputy Chief of Staff, Covid Response | DH210075 | 02/02/2021
|  | Deputy White House Liaison | DH210100 | 02/12/2021
|  | Director of Scheduling | DH200188 | 12/07/2020
|  | Director of Scheduling and Advance | DH210150 | 03/16/2021
|  | Director of Strategic Advance | DH210018 | 12/11/2020
|  | Executive Assistant and Briefing Book Coordinator | DH210102 | 02/12/2021
|  | Policy Advisor | DH210182 | 05/28/2021
|  | Senior Advisor to the Executive Secretary | DH210109 | 02/12/2021
|  | Senior Policy Advisor | DH210196 | 06/22/2021
|  | Special Assistant (2) | DH200129 | 07/06/2020
|  |  | DH200175 | 09/19/2020
|  | Special Assistant for Scheduling | DH210099 | 02/08/2021
|  | Special Assistant to the Secretary | DH210162 | 04/09/2021
|  | White House Liaison (2) | DH210059 | 02/02/2021
|  |  | DH210015 | 11/20/2020
| Substance Abuse and Mental Health Services Administration | Senior Advisor | DH210143 | 03/02/2021
DEPARTMENT OF HOMELAND SECURITY | Countering Weapons of Mass Destruction Office | Special Assistant | DM200307 | 07/22/2020
|  | Senior Advisor | DM200353 | 09/17/2020
| Cybersecurity and Infrastructure Security Agency | Senior Advisor for Public Affairs | DM210209 | 03/11/2021
|  | Special Advisor to the Executive Assistant Director for Infrastructure Security | DM210319 | 05/13/2021
|  | Director of Public Affairs | DM210337 | 05/14/2021
|  | Senior Advisor | DM210378 | 06/11/2021
|  | Policy Advisor | DM210380 | 06/16/2021
| Federal Emergency Management Agency | Director of Congressional and Intergovernmental Affairs | DM200319 | 07/27/2020
|  | Senior Advisor | DM210042 | 11/20/2020
|  | Special Assistant Chief of Staff | DM210258 | 03/30/2021
|  | Legislative Correspondent | DM210292 | 04/27/2021
| Office of Management Directorate | Communications Specialist | DM210009 | 10/13/2020
|  | Senior Advisor | DM210360 | 06/21/2021
| Office for Civil Rights and Civil Liberties | Advisor | DM210170 | 02/26/2021
| Office of Legislative Affairs | Director of Legislative Affairs | DM210157 | 02/17/2021
|  | Legislative Affairs Director | DM210213 | 03/16/2021
|  | Director of Legislative Affairs, Oversight | DM210342 | 05/17/2021
| Office of Partnership and Engagement | Executive Director, Homeland Security Advisory Council | DM210214 | 03/10/2021
|  | Intergovernmental Affairs Coordinator (2) | DM210260 | 04/05/2021
|  |  | DM210370 | 06/11/2021
| Office of Public Affairs | Assistant Press Secretary (2) | DM210274 | 04/05/2021
|  |  | DM210272 | 04/13/2021
|  | Communications Director | DM210173 | 02/26/2021
|  | Deputy Press Secretary | DM210270 | 04/05/2021
|  | Digital Director | DM200323 | 07/28/2020
|  | Director of Strategic Communications (2) | DM210073 | 01/14/2021
|  |  | DM210223 | 03/30/2021
|  | Director of Strategic Engagement | DM210226 | 04/12/2021
|  | Social Media Director (2) | DM210295 | 04/23/2021
|  |  | DM210323 | 05/04/2021
| Office of Strategy, Policy, and Plans | Policy Advisor | DM210211 | 03/16/2021
|  | Policy Advisor (Counter Terrorism and Threat Prevention)(2) | DM210336 | 05/14/2021
|  |  | DM210335 | 05/13/2021
|  | Senior Advisor | DM200334 | 07/28/2020
|  | Senior Advisor, National and Transnational Threats | DM200381 | 09/30/2020
|  | Special Assistant | DM210014 | 10/19/2020
|  | Special Assistant to the Assistant Secretary (2) | DM210386 | 06/17/2021
|  |  | DM210330 | 05/13/2021
|  | Special Assistant to the Chief of Staff (2) | DM210273 | 04/05/2021
|  |  | DM210312 | 04/23/2021
| Office of the General Counsel | Oversight Counsel | DM190073 | 10/17/2020
|  | Senior Counsel | DM210051 | 12/18/2020
|  | Special Assistant to the Chief of Staff | DM210321 | 05/05/2021
| Office of the Secretary | Counselor for (Immigration) | DM210228 | 04/12/2021
|  | Counselor for Regulations | DM210294 | 05/06/2021
|  | Counselor to the Chief of Staff | DM210267 | 04/02/2021
|  | Deputy Director of Scheduling and Advance | DM210385 | 06/25/2021
|  | Deputy Secretary and Briefing Book Coordinator | DM210256 | 03/30/2021
|  | Deputy White House Liaison | DM210181 | 03/11/2021
|  | Director of Legislative Affairs | DM210224 | 03/11/2021
|  | Director of Trips and Advance | DM210225 | 03/12/2021
|  | Scheduler to the Secretary | DM210352 | 05/26/2021
|  | Secretary and Briefing Book Coordinator | DM210259 | 03/30/2021
|  | Senior Advance Officer (2) | DM210353 | 05/26/2021
|  |  | DM210358 | 06/07/2021
|  | Special Assistant | DM210316 | 05/11/2021
|  | Special Assistant to the Secretary | DM210334 | 05/13/2021
|  | Special Assistant, White House Liaison | DM210253 | 03/30/2021
|  | Special Projects Coordinator | DM210327 | 05/14/2021
| United States Citizenship and Immigration Services | Deputy Chief of Staff | DM200328 | 08/23/2020
|  | Counselor (Special Projects) | DM210172 | 02/12/2021
|  | Senior Advisor, External Affairs | DM210240 | 03/22/2021
|  | Special Assistant to the Chief of Staff | DM210262 | 04/09/2021
| United States Customs and Border Protection | Deputy Chief of Staff, Policy | DM200313 | 07/22/2020
|  | Deputy Press Secretary | DM200396 | 09/25/2020
|  | Senior Advisor to Commissioner | DM210220 | 03/08/2021
|  | Advisor to the Chief of Staff | DM210239 | 03/22/2021
|  | Deputy Chief of Staff, Programs | DM210357 | 06/03/2021
| United States Immigration and Customs Enforcement | Assistant Director of Congressional Relations | DM210351 | 05/28/2021
|  | Assistant Director, Office of Public Affairs | DM210179 | 03/10/2021
|  | Deputy Chief of Staff | DM210175 | 03/12/2021
|  | Press Assistant | DM210004 | 10/13/2020
|  | Senior Advisor (2) | DM200320 | 07/20/2020
|  |  | DM200397 | 11/03/2020
DEPARTMENT OF HOUSING AND URBAN DEVELOPMENT | Office of Community Planning and Development | Special Assistant | DU210080 | 06/03/2021
| Office of Congressional and Intergovernmental Relations | Congressional Relations Specialist (4) | DU200133 | 10/29/2020
|  |  | DU210031 | 01/27/2021
|  |  | DU210059 | 04/16/2021
|  |  | DU210085 | 06/17/2021
|  | Deputy Assistant Secretary for Intergovernmental Relations | DU210058 | 04/16/2021
|  | Deputy Assistant Secretary for Congressional Relations | DU210030 | 01/27/2021
|  | Senior Advisor for Intergovernmental Relations | DU210064 | 04/27/2021
| Office of Fair Housing and Equal Opportunity | Special Assistant to the Deputy Secretary | DU210049 | 02/03/2021
| Office of Faith-Based and Community Initiatives | Director of Faith Based | DU210065 | 04/27/2021
| Office of Field Policy and Management | Special Policy Advisor | DU210037 | 01/22/2021
| Office of Housing | Special Advisor | DU200147 | 08/22/2020
|  | Special Assistant | DU210035 | 01/27/2021
| Office of Policy Development and Research | Special Assistant for Special Projects | DU210044 | 01/26/2021
|  | Special Advisor to the Assistant Secretary | DU210029 | 01/27/2021
| Office of Public Affairs | Special Assistant | DU210009 | 10/29/2020
|  | Deputy Assistant Secretary for Intergovernmental Relations | DU210041 | 01/22/2021
|  | Press Secretary | DU210022 | 01/27/2021
|  | Deputy Assistant Secretary for Public Affairs | DU210028 | 01/27/2021
|  | Director of Speechwriting | DU210054 | 03/18/2021
|  | Director of Strategic Communications | DU210082 | 06/03/2021
|  | Assistant Press Secretary | DU210084 | 06/22/2021
| Office of Public and Indian Housing | Special Assistant | DU210040 | 01/22/2021
|  | Special Policy Advisor | DU210072 | 05/14/2021
| Office of the Administration | Director of Advance | DU210032 | 01/27/2021
|  | Director of Executive Scheduling and Operations | DU210057 | 04/16/2021
|  | Director of Scheduling | DU210063 | 04/23/2021
|  | Special Assistant | DU210081 | 06/03/2021
| Office of the Chief Financial Officer | Special Assistant | DU200126 | 07/10/2020
|  | Senior Advisor | DU200117 | 07/16/2020
| Office of the Deputy Secretary | Special Assistant | DU200153 | 09/03/2020
|  | Deputy White House Liaison | DU210047 | 01/27/2021
| Office of the General Counsel | Senior Counsel | DU210024 | 01/27/2021
| Office of the Secretary | Briefing Book Coordinator | DU210061 | 04/23/2021
|  | Executive Assistant to the Secretary | DU210025 | 01/27/2021
|  | Senior Advisor | DU210086 | 06/29/2021
|  | Special Assistant | DU200116 | 07/16/2020
|  | Special Assistant for Housing and Services | DU210062 | 04/23/2021
|  | White House Liaison | DU210020 | 01/27/2021
DEPARTMENT OF THE INTERIOR | Office of the Assistant Secretary—Fish and Wildlife and Parks | Special Assistant, Fish and Wildlife and Parks | DI210098 | 02/12/2021
| Office of the Assistant Secretary—Indian Affairs | Assistant | DI200115 | 09/15/2020
|  | Senior Advisor | DI210114 | 04/20/2021
| Office of the Assistant Secretary—Land and Minerals Management | Special Assistant | DI210069 | 02/12/2021
| Office of the Assistant Secretary—Policy, Management and Budget | Senior Advisor | DI200099 | 10/26/2020
|  | Special Assistant | DI210094 | 02/13/2021
| Bureau of Land Management | Senior Advisor to the Director, Bureau of Land Management | DI200062 | 09/15/2020
|  | Special Assistant | DI210091 | 02/13/2021
| Bureau of Ocean Energy Management | Advisor | DI210086 | 02/12/2021
| Bureau of Reclamation | Special Assistant | DI210093 | 02/13/2021
| National Park Service | Special Assistant | DI210092 | 02/13/2021
| Office of Congressional and Legislative Affairs | Senior Advisor (2) | DI190078 | 09/03/2020
|  |  | DI200102 | 10/26/2020
| Office of the Deputy Secretary | Advisor | DI200057 | 09/14/2020
| Secretary's Immediate Office | Advance Representative (3) | DI200058 | 09/03/2020
|  |  | DI200118 | 09/25/2020
|  |  | DI210096 | 02/13/2021
|  | Advisor | DI210120 | 04/22/2021
|  | Advisor to the Deputy Secretary of the Interior | DI210113 | 04/20/2021
|  | Deputy Director of Congressional Affairs—House | DI210085 | 02/11/2021
|  | Deputy Director of Congressional Affairs—Senate | DI210068 | 02/11/2021
|  | Deputy Director, Intergovernmental Affairs | DI210119 | 04/20/2021
|  | Deputy Director, Office of Scheduling and Advance | DI210121 | 06/01/2021
|  | Deputy Press Secretary | DI210108 | 03/26/2021
|  | Deputy White House Liaison (2) | DI210004 | 12/01/2020
|  |  | DI210095 | 02/13/2021
|  | Digital Director | DI210036 | 02/25/2021
|  | Director of Scheduling and Advance | DI210104 | 02/17/2021
|  | Director, Intergovernmental and External Affairs | DI210100 | 02/16/2021
|  | Press Assistant | DI200114 | 09/15/2020
|  | Press Secretary | DI210066 | 02/11/2021
|  | Senior Advisor to the Secretary | DI210008 | 12/21/2020
|  | Special Assistant | DI200116 | 09/14/2020
|  | Special Assistant to the Deputy Secretary's Chief of Staff | DI210063 | 02/26/2021
|  | Special Assistant to the Secretary | DI210048 | 02/26/2021
|  | Special Assistant to the Secretary's Chief of Staff | DI210097 | 02/13/2021
|  | Speechwriter | DI210046 | 03/11/2021
|  | White House Liaison | DI200122 | 10/05/2020
|  |  | DI210065 | 02/12/2021
|  | Writer | DI200097 | 07/28/2020
| United States Fish and Wildlife Service | Senior Advisor | DI200059 | 09/03/2020
|  | Special Assistant | DI210070 | 02/16/2021
DEPARTMENT OF JUSTICE | Office of Civil Division | Senior Counsel (2) | DJ200137 | 08/26/2020
|  |  | DJ210022 | 12/08/2020
| Office of Civil Rights Division | Senior Counsel (2) | DJ200135 | 08/07/2020
|  |  | DJ200148 | 09/10/2020
| Environment and Natural Resources Division | Senior Counsel | DJ210024 | 01/08/2021
| Executive Office for United States Attorneys | Secretary (Office Automation) | DJ200120 | 07/27/2020
| National Security Division | Senior Counsel (2) | DJ210133 | 05/06/2021
|  |  | DJ210126 | 06/03/2021
| Office of Justice Programs | Senior Advisor | DJ200107 | 07/02/2020
|  | Special Assistant | DJ200150 | 08/26/2020
|  | Policy Advisor | DJ200130 | 09/25/2020
|  | Advisor for Research and Statistics | DJ200157 | 10/09/2020
| Office of Legal Policy | Advisor | DJ210121 | 04/20/2021
|  | Senior Counsel (2) | DJ210049 | 01/20/2021
|  |  | DJ210141 | 05/24/2021
| Office of Legislative Affairs | Attorney Advisor (3) | DJ210037 | 01/20/2021
|  |  | DJ210038 | 01/20/2021
|  |  | DJ210039 | 01/20/2021
|  | Confidential Assistant | DJ210135 | 05/11/2021
|  | Chief of Staff and Senior Counsel | DJ210136 | 05/13/2021
| Office of Public Affairs | Press Assistant | DJ210043 | 01/20/2021
|  | Public Affairs Specialist | DJ210140 | 05/24/2021
| Office of the Associate Attorney General | Chief of Staff | DJ210132 | 05/05/2021
| Office of the Attorney General | Advisor to the Attorney General | DJ200171 | 10/20/2020
|  | Deputy White House Liaison and Advisor to the Attorney General | DJ210002 | 10/20/2020
|  | Director of Scheduling and Advisor to the Attorney General | DJ210005 | 12/16/2020
|  | Confidential Assistant | DJ210097 | 03/03/2021
|  | Special Assistant | DJ210098 | 03/03/2021
| Office of the Deputy Attorney General | Senior Advisor | DJ200119 | 07/02/2020
|  | Special Assistant | DJ210077 | 02/02/2021
DEPARTMENT OF LABOR | Bureau of International Labor Affairs | Senior Counselor | DL200168 | 08/17/2020
|  | Chief of Staff | DL210080 | 04/13/2021
| Employee Benefits Security Administration | Economist | DL200165 | 08/13/2020
|  | Senior Policy Advisor | DL200096 | 07/02/2020
|  | Director of Special Projects | DL200109 | 07/08/2020
|  | Deputy Chief of Staff | DL200125 | 07/30/2020
|  | Chief of Staff | DL210049 | 01/20/2021
|  | Senior Policy Advisor for Unemployment Insurance | DL210060 | 01/29/2021
|  | Senior Policy Advisor | DL210082 | 04/28/2021
|  | Special Assistant | DL210087 | 05/19/2021
| Mine Safety and Health Administration | Chief of Staff (2) | DL200173 | 09/10/2020
|  |  | DL210083 | 04/14/2021
|  | Special Assistant | DL210089 | 05/20/2021
| Occupational Safety and Health Administration | Chief of Staff | DL210044 | 01/20/2021
|  | Special Assistant | DL210093 | 06/03/2021
| Office of Congressional and Intergovernmental Affairs | Chief of Staff | DL210033 | 01/20/2021
|  | Deputy Director of Intergovernmental Affairs | DL210017 | 01/20/2021
|  | Legislative Assistant (2) | DL200154 | 07/09/2020
|  |  | DL210007 | 01/14/2021
|  | Legislative Officer (2) | DL200150 | 08/01/2020
|  |  | DL210054 | 02/08/2021
|  | Regional Representative | DL200153 | 07/27/2020
|  | Senior Counsel | DL210036 | 01/20/2021
|  | Senior Legislative Officer (2) | DL200160 | 10/09/2020
|  |  | DL210043 | 01/20/2021
|  |  | DL210099 | 06/15/2021
| Office of Federal Contract Compliance Programs | Chief of Staff | DL210029 | 01/20/2021
| Office of Labor-Management Standards | Special Assistant | DL200048 | 12/19/2020
|  | Senior Advisor | DL210101 | 06/23/2021
| Office of Public Affairs | Press Secretary | DL210042 | 01/20/2021
|  | Digital Engagement Director | DL210061 | 01/27/2021
|  | Director of Digital Strategy | DL210057 | 01/28/2021
|  | Speechwriter | DL210077 | 03/24/2021
| Office of the Assistant Secretary for Administration and Management | Special Advisor | DL210018 | 01/20/2021
| Office of the Assistant Secretary for Policy | Chief of Staff | DL210027 | 01/20/2021
| Office of the Deputy Secretary | Counselor to the Deputy Secretary | DL210059 | 01/27/2021
| Office of the Secretary | Advisor for Private Sector Engagement | DL210076 | 03/24/2021
|  | Advisor for Worker Voice Engagement | DL210063 | 01/29/2021
|  | Counselor to the Secretary (2) | DL210039 | 01/20/2021
|  |  | DL210051 | 01/21/2021
|  | Deputy Chief of Staff | DL200106 | 07/06/2020
|  | Deputy Director of Scheduling and Advance | DL210097 | 06/17/2021
|  | Deputy White House Liaison | DL210041 | 01/20/2021
|  | Director of Scheduling and Advance | DL210071 | 02/04/2021
|  | Executive Assistant to the Secretary | DL210062 | 01/27/2021
|  | Executive Secretary | DL210096 | 06/23/2021
|  | Policy Advisor | DL210048 | 01/21/2021
|  | Senior Advisor | DL200130 | 07/27/2020
|  | Special Assistant (4) | DL200156 | 07/20/2020
|  |  | DL210072 | 02/04/2021
|  |  | DL210073 | 02/04/2021
|  |  | DL210091 | 05/19/2021
|  | Special Assistant for Scheduling | DL200148 | 07/20/2020
|  | White House Liaison | DL210016 | 01/20/2021
| Office of the Solicitor | Counsel | DL200164 | 09/03/2020
|  | Senior Counsel | DL210032 | 01/20/2021
|  | Senior Advisor | DL210038 | 01/20/2021
| Office of Workers Compensation Programs | Chief of Staff | DL210034 | 01/20/2021
|  | Special Assistant | DL210086 | 05/24/2021
| Office of Veterans Employment and Training Service | Chief of Staff and Policy Advisor | DL200127 | 07/30/2020
|  | Senior Advisor | DL200159 | 07/31/2020
|  | Chief of Staff | DL210058 | 01/29/2021
| Office of Wage and Hour Division | Chief of Staff | DL210064 | 01/28/2021
|  | Policy Advisor | DL200190 | 10/17/2020
|  | Special Assistant (2) | DL200175 | 09/10/2020
|  |  | DL210095 | 06/16/2021
| Office of Women's Bureau | Chief of Staff | DL210094 | 05/27/2021
NATIONAL AERONAUTICS AND SPACE ADMINISTRATION | Office of Communications | Communication Specialist | NN200040 | 10/01/2020
|  | Media Relations Specialist | NN210033 | 05/10/2021
|  | Deputy Press Secretary | NN210040 | 06/09/2021
|  | Press Secretary | NN210042 | 06/22/2021
| Office of Legislative and Intergovernmental Affairs | Special Assistant | NN210020 | 01/22/2021
| Office of the Administrator | Special Assistant (2) | NN210041 | 06/17/2021
|  |  | NN210043 | 06/29/2021
NATIONAL CREDIT UNION ADMINISTRATION | Office of External Affairs and Communications | Deputy Director, Office of External Affairs and Communications | CU210007 | 03/22/2021
| Office of the Board |  | CU210001 | 12/07/2020
|  | Senior Policy Advisor (2) | CU210004 | 03/03/2021
|  | Special Assistant and Advisor | CU210002 | 01/05/2021
|  | Staff Assistant | CU200004 | 03/03/2021
| Office of the Chairman | Chief of Staff | CU210003 | 03/03/2021
|  | Confidential Assistant | CU210005 | 03/03/2021
|  | Director, Office of External Affairs and Communications/Deputy Chief of Staff | CU210006 | 03/09/2021
NATIONAL ENDOWMENT FOR THE ARTS | National Endowment for the Arts | Deputy Director of Public Affairs | NA210003 | 01/08/2021
|  | Director of Congressional Affairs | NA210010 | 01/21/2021
|  | Director of Strategic Communications and Public Affairs | NA210007 | 01/20/2021
|  | Director of Strategic Priorities and Projects | NA210011 | 05/04/2021
|  | White House Liaison and Senior Advisor to the Chief of Staff | NA210009 | 01/20/2021
NATIONAL ENDOWMENT FOR THE HUMANITIES | National Endowment for the Humanities | Chief of Staff | NH210002 | 02/08/2021
|  | Congressional Affairs Specialist | NH200005 | 08/13/2020
|  | Strategic Advisor to the Senior Deputy Chairman | NH200004 | 08/17/2020
|  | Supervisory Public Affairs Specialist | NH210004 | 02/08/2021
|  | White House Liaison and Chairman's Strategic Scheduler | NH210003 | 02/08/2021
NATIONAL LABOR RELATIONS BOARD | Office of the Board Members | Director Congressional and Public Affairs Officer | NL210002 | 03/02/2021
|  | Press Secretary | NL210003 | 03/02/2021
NATIONAL TRANSPORTATION SAFETY BOARD | Office of Board Members | Special Assistant | TB200008 | 07/02/2020
OCCUPATIONAL SAFETY AND HEALTH REVIEW COMMISSION | Occupational Safety and Health Review Commission | Confidential Assistant to the Chairman | SH210002 | 01/13/2021
| Office of Commissioners | Counsel to A Commissioner | SH210003 | 02/10/2021
OFFICE OF MANAGEMENT AND BUDGET | Office of Communications | Confidential Assistant | BO210052 | 01/29/2021
|  | Deputy Associate Director for Communications | BO210022 | 02/02/2021
|  | Deputy Associate Director for Communications | BO210064 | 04/12/2021
| Office of Education, Income Maintenance and Labor Programs | Confidential Assistant | BO210020 | 01/29/2021
| Office of the General Counsel | Confidential Assistant (2) | BO200045 | 08/28/2020
|  |  | BO210051 | 01/29/2021
|  | Associate Deputy General Counsel | BO210058 | 01/29/2021
| Office of General Government Programs | Confidential Assistant (2) | BO210018 | 01/29/2021
|  |  | BO210025 | 01/29/2021
| Office of Health Division | Special Assistant | BO200046 | 10/09/2020
| Office of Legislative Affairs | Deputy to the Associate Director | BO210023 | 01/29/2021
|  |  | BO210031 | 01/29/2021
| Office of National Security Programs | Confidential Assistant | BO210029 | 01/29/2021
| Office of Natural Resource Programs | Confidential Assistant (2) | BO210002 | 10/29/2020
|  |  | BO210019 | 01/29/2021
| Office of E-Government and Information Technology | Confidential Assistant | BO210072 | 06/07/2021
|  | Senior Advisor for Delivery (United States Digital Service)(3) | BO210070 | 05/13/2021
|  |  | BO210071 | 05/13/2021
|  |  | BO210074 | 06/11/2021
|  | Senior Advisor for Technology and Delivery (Cybersecurity) | BO210062 | 03/02/2021
| Office of Federal Financial Management | Special Assistant | BO210005 | 12/07/2020
| Office of Information and Regulatory Affairs | Confidential Assistant | BO210030 | 01/29/2021
| Office of the Director | Advisor | BO210046 | 01/29/2021
|  | Assistant to the Director | BO210014 | 01/21/2021
|  | Confidential Assistant (2) | BO210003 | 12/07/2020
|  |  | BO210056 | 02/01/2021
|  | Special Assistant (3) | BO200036 | 10/09/2020
|  |  | BO210069 | 05/04/2021
|  |  | BO210068 | 05/06/2021
| Staff Offices | Associate Director for Communications | BO210053 | 01/29/2021
|  | Confidential Assistant | BO210057 | 01/29/2021
OFFICE OF NATIONAL DRUG CONTROL POLICY | Office of Legislative Affairs | Deputy Assistant Director | QQ210001 | 12/07/2020
|  | Public Affairs Specialist | QQ210002 | 12/07/2020
|  | Associate Director Office of Legislative Affairs | QQ210004 | 01/21/2021
| Office of Public Affairs | Public Affairs Specialist (Press Secretary) | QQ210009 | 05/20/2021
| Office of the Director | Special Advisor | QQ200009 | 09/24/2020
|  | White House Liaison and Advisor to the Director | QQ200010 | 09/30/2020
OFFICE OF PERSONNEL MANAGEMENT | Office of Congressional, Legislative, and Intergovernmental Affairs | Deputy Director | PM210048 | 03/23/2021
| Office of Communications | Public Affairs Specialist (2) | PM200057 | 07/14/2020
|  |  | PM210014 | 12/04/2020
|  | Deputy Director, Office of Communications | PM210044 | 03/09/2021
| Office of the Director | Advisor to the Director | PM200091 | 09/11/2020
|  | Deputy Chief of Staff (2) | PM200082 | 08/01/2020
|  |  | PM210055 | 04/30/2021
|  | Press Secretary | PM210040 | 02/16/2021
|  | Senior Advisor to the Chief of Staff | PM210053 | 04/19/2021
|  | Special Assistant to the Director | PM210038 | 02/16/2021
|  | White House Liaison | PM210041 | 02/23/2021
| Presidents Commission on White House Fellowships | Special Assistant | PM200021 | 07/31/2020
OFFICE OF SCIENCE AND TECHNOLOGY POLICY | Office of Science and Technology Policy | Legislative Affairs Director | TS210002 | 01/22/2021
|  | Special Assistant | TS210003 | 01/22/2021
|  | Director of Communications | TS210005 | 03/02/2021
OFFICE OF THE UNITED STATES TRADE REPRESENTATIVE | Office of Congressional Affairs | Assistant United States Trade Representative for Congressional Affairs | TN210008 | 01/27/2021
|  | Director for Congressional Affairs | TN210010 | 01/27/2021
| Office of Intergovernmental Affairs and Public Liaison | Assistant United States Trade Representative for Public Engagement | TN210009 | 01/27/2021
|  | Assistant United States Trade Representative for Intergovernmental Affairs | TN210012 | 01/29/2021
| Office of Public and Media Affairs | Digital Media Director | TN210004 | 01/26/2021
|  | Assistant United States Trade Representative for Public and Media Affairs | TN210013 | 01/29/2021
UNITED STATES INTERNATIONAL DEVELOPMENT FINANCE CORPORATION | Overseas Private Investment Corporation | Deputy Chief of Staff | PQ210002 | 01/20/2021
|  | Special Assistant (4) | PQ210001 | 08/31/2020
|  |  | PQ210006 | 01/25/2021
|  |  | PQ210010 | 05/03/2021
|  |  | PQ210011 | 04/27/2021
SECURITIES AND EXCHANGE COMMISSION | Office of Public Affairs | Writer-Editor | SE210017 | 05/19/2021
|  | Supervisory Public Affairs Specialist | SE210019 | 05/19/2021
| Office of the Chairman | Confidential Assistant | SE210018 | 05/19/2021
SMALL BUSINESS ADMINISTRATION | Office of Capital Access | Special Assistant | SB210008 | 01/28/2021
|  | Senior Advisor | SB210030 | 05/06/2021
| Office of Communications and Public Liaison | Deputy Associate Administrator for Communication and Public Liaison | SB210017 | 02/08/2021
|  | Director of Communications | SB210031 | 05/06/2021
|  | Press Assistant (2) | SB200031 | 07/07/2020
|  |  | SB210028 | 04/23/2021
|  | Senior Advisor | SB200038 | 07/31/2020
|  | Senior Speechwriter | SB210034 | 05/28/2021
| Office of Congressional and Legislative Affairs | Deputy Associate Administrator (House)(2) | SB210036 | 05/28/2021
|  |  | SB210038 | 06/29/2021
|  | Deputy Associate Administrator (Senate) | SB210035 | 05/28/2021
|  | Legislative Assistant | SB200033 | 07/06/2020
|  | Legislative Policy Advisor | SB210006 | 01/28/2021
| Office of Field Operations | Senior Advisor | SB210002 | 10/17/2020
| Office of Government Contracting and Business Development | Senior Advisor | SB210039 | 06/11/2021
|  | Special Assistant | SB210044 | 06/30/2021
| Office of Investment and Innovation | Senior Advisor (2) | SB210001 | 10/09/2020
|  |  | SB210043 | 06/25/2021
| Office of the Administrator | Confidential Assistant (2) | SB210023 | 02/18/2021
|  |  | SB210040 | 06/23/2021
|  | Deputy Chief of Staff (External) | SB210026 | 04/05/2021
|  | Director of Scheduling | SB210029 | 05/04/2021
|  | Policy Advisor | SB210033 | 06/03/2021
|  | Senior Advisor (2) | SB210011 | 01/28/2021
|  |  | SB210027 | 04/16/2021
|  | Special Advisor (2) | SB210009 | 02/04/2021
|  |  | SB210024 | 02/22/2021
|  | Special Assistant (2) | SB210032 | 05/19/2021
|  |  | SB210042 | 06/23/2021
|  | White House Liaison (2) | SB200043 | 09/26/2020
|  |  | SB210005 | 01/28/2021
| Office of the General Counsel | Deputy General Counsel (2) | SB200034 | 07/11/2020
|  |  | SB210037 | 06/07/2021
SOCIAL SECURITY ADMINISTRATION | Office of the Commissioner | Senior Advisor | SZ210021 | 02/23/2021
DEPARTMENT OF STATE | Bureau of African Affairs | Senior Advisor | DS210188 | 04/16/2021
|  | Deputy Assistant Secretary | DS210211 | 04/23/2021
| Bureau of Arms Control, Verification, and Compliance | Deputy Assistant Secretary | DS210214 | 04/27/2021
|  | Senior Advisor | DS210237 | 05/14/2021
| Bureau of Counterterrorism | Special Advisor | DS210015 | 11/09/2020
| Bureau of Democracy, Human Rights and Labor | Special Assistant | DS210189 | 04/16/2021
|  | Senior Advisor | DS210213 | 04/23/2021
| Bureau of East Asian and Pacific Affairs | Senior Advisor | DS210191 | 04/22/2021
| Bureau of Economic and Business Affairs | General Counsel | DS200085 | 08/01/2020
|  | Senior Advisor | DS210212 | 04/23/2021
| Bureau of Energy Resources | Deputy Assistant Secretary | DS210192 | 04/16/2021
| Bureau of European and Eurasian Affairs | Senior Advisor | DS210193 | 04/16/2021
| Bureau of Global Public Affairs | Deputy Assistant Secretary | DS210174 | 04/14/2021
|  | Principal Deputy Spokesperson | DS210185 | 04/14/2021
|  | Public Affairs Specialist | DS210206 | 04/23/2021
|  | Senior Advisor | DS210165 | 04/08/2021
|  | Special Advisor | DS210226 | 05/06/2021
|  | Spokesperson | DS210248 | 06/24/2021
|  | Supervisory Public Affairs Specialist | DS210183 | 04/14/2021
| Bureau of International Narcotics and Law Enforcement Affairs | Senior Advisor | DS210176 | 04/12/2021
| Bureau of International Organizational Affairs | Senior Advisor | DS210177 | 04/12/2021
|  | Deputy Assistant Secretary | DS210235 | 05/06/2021
| Bureau of Legislative Affairs | Deputy Assistant Secretary (House) | DS210195 | 04/20/2021
|  | Deputy Assistant Secretary (Senate) | DS210194 | 04/22/2021
|  | Legislative Management Officer (2) | DS210233 | 05/11/2021
|  |  | DS210245 | 06/24/2021
| Bureau of Population, Refugees and Migration | Senior Advisor (2) | DS210224 | 05/04/2021
|  |  | DS210227 | 05/04/2021
| Bureau of South and Central Asian Affairs | Senior Advisor | DS210181 | 04/12/2021
| Bureau of Western Hemisphere Affairs | Senior Advisor | DS210204 | 04/23/2021
|  | Deputy Assistant Secretary | DS210205 | 04/23/2021
| Office of Global Women's Issues | Senior Advisor | DS210196 | 04/23/2021
|  | Special Assistant | DS210202 | 04/23/2021
| Office of Policy Planning | Senior Advisor (4) | DS210180 | 04/12/2021
|  |  | DS210198 | 04/23/2021
|  |  | DS210199 | 04/28/2021
|  |  | DS210222 | 05/04/2021
|  | Special Assistant (2) | DS210197 | 04/23/2021
|  |  | DS210221 | 05/04/2021
| Office of the Chief of Protocol | Assistant Chief of Protocol (Ceremonials) | DS210218 | 05/04/2021
|  | Assistant Chief of Protocol (Diplomatic Partnerships) | DS210145 | 03/16/2021
|  | Deputy Chief of Protocol (2) | DS210219 | 05/04/2021
|  |  | DS210220 | 05/10/2021
| Senior Protocol Officer (Ceremonials) |  | DS210249 | 06/24/2021
|  | Senior Protocol Officer (Visits) | DS210247 | 06/24/2021
| Office of the Counselor | Senior Advisor | DS200055 | 07/21/2020
|  | Special Assistant | DS210215 | 05/04/2021
| Office of the Deputy Secretary | Senior Advisor (2) | DS210186 | 04/19/2021
|  |  | DS210238 | 05/14/2021
| Office of the Deputy Secretary for Management and Resources | Senior Advisor | DS210216 | 05/04/2021
|  | Staff Assistant | DS210232 | 05/11/2021
| Office of the Secretary | Special Assistant (3) | DS200068 | 07/08/2020
|  |  | DS200064 | 07/15/2020
|  |  | DS200075 | 07/27/2020
|  | Staff Assistant (3) | DS210208 | 04/23/2021
|  |  | DS210230 | 05/07/2021
|  |  | DS210240 | 05/14/2021
| Office of the Under Secretary for Arms Control and International Security Affairs | Senior Advisor (2) | DS210200 | 04/20/2021
|  |  | DS210228 | 05/06/2021
| Office of the Under Secretary for Civilian Security, Democracy, and Human Rights | Senior Advisor | DS200086 | 07/27/2020
| Office of the Under Secretary for Economic Growth, Energy, and the Environment | Senior Advisor | DS210190 | 04/23/2021
| Office of the Under Secretary for Management | Deputy White House Liaison | DS210229 | 05/06/2021
|  | White House Liaison | DS210243 | 05/25/2021
TRADE AND DEVELOPMENT AGENCY | Office of the Director | Chief of Staff | TD210002 | 05/20/2021
DEPARTMENT OF TRANSPORTATION | Office of the Assistant Secretary for Governmental Affairs | Deputy Assistant Secretary for Congressional Affairs (House) | DT210034 | 01/20/2021
|  | Deputy Assistant Secretary for Intergovernmental Affairs | DT210035 | 01/20/2021
|  | Deputy Assistant Secretary for Tribal Affairs | DT210053 | 01/28/2021
|  | Governmental Affairs Officer | DT200134 | 09/26/2020
|  | Principal Deputy Assistant Secretary for Congressional Affairs (Senate) | DT210009 | 01/20/2021
|  | Senior Advisor for Intergovernmental Affairs | DT200148 | 09/24/2020
|  | Special Assistant for Governmental Affairs | DT210042 | 01/20/2021
|  |  | DT210078 | 05/17/2021
| Office of the Assistant Secretary for Research and Technology | Economic Advisor | DT200145 | 10/07/2020
| Office of the Assistant Secretary for Transportation Policy | Public Liaison | DT200149 | 09/24/2020
|  | Special Assistant for Policy (2) | DT210043 | 01/20/2021
|  |  | DT210045 | 01/20/2021
| Office of the Executive Secretariat | Director, Executive Secretariat | DT210033 | 01/20/2021
|  | Special Assistant | DT210062 | 03/04/2021
| Federal Highway Administration | Special Assistant | DT210041 | 01/20/2021
| Federal Motor Carrier Safety Administration | Director of External Affairs | DT210089 | 06/25/2021
| Federal Transit Administration | Associate Administrator for Communications and Legislative Affairs | DT210080 | 05/17/2021
| General Counsel | Special Assistant to the General Counsel | DT210037 | 01/20/2021
| Immediate Office of the Administrator | Senior Advisor to the Administrator | DT210032 | 01/20/2021
| Office of Civil Rights | Senior Advisor | DT210085 | 06/25/2021
| Office of Public Affairs | Deputy Director for Public Affairs (2) | DT210063 | 03/04/2021
|  |  | DT210057 | 01/29/2021
|  | Digital Communications Manager | DT210059 | 01/29/2021
|  | Press Secretary | DT210092 | 06/25/2021
|  | Press Secretary and Senior Public Affairs Advisor | DT200133 | 10/07/2020
|  | Speechwriter (2) | DT210065 | 03/25/2021
|  |  | DT210066 | 03/31/2021
| Office of the Deputy Secretary | Advisor to the Deputy Secretary | DT210068 | 04/09/2021
|  | Special Assistant | DT210071 | 04/23/2021
|  | Special Assistant for Advance Operations | DT200130 | 09/24/2020
|  | Special Assistant for Scheduling | DT210067 | 03/31/2021
| Office of the Secretary | Director of Scheduling and Advance | DT210044 | 01/20/2021
| Office of the Under Secretary of Transportation for Policy | Senior Advisor for Innovation | DT210073 | 05/04/2021
| Pipeline and Hazardous Materials Safety Administration | Special Assistant | DT210040 | 01/20/2021
| Office of the Secretary | Deputy Chief of Staff for Operations | DT210036 | 01/20/2021
|  | Deputy White House Liaison | DT210060 | 01/29/2021
|  | Director of Advance | DT210064 | 03/12/2021
|  | Special Assistant for Advance (2) | DT210056 | 01/29/2021
|  |  | DT210088 | 06/25/2021
|  | Special Assistant for Scheduling | DT210081 | 05/17/2021
|  | Special Assistant to the Secretary | DT210061 | 01/29/2021
|  | White House Liaison (2) | DT200151 | 09/26/2020
|  |  | DT210031 | 01/20/2021
| Small and Disadvantaged Business Utilization | Special Assistant | DT200124 | 07/27/2020
DEPARTMENT OF THE TREASURY | Office of the Assistant Secretary (Legislative Affairs) | Special Assistant (2) | DY210078 | 03/12/2021
|  |  | DY210086 | 05/10/2021
| Office of the Assistant Secretary (Public Affairs) | Director, Public Affairs | DY200126 | 08/03/2020
|  | Digital Strategy Specialist | DY210096 | 05/19/2021
|  | Senior Spokesperson | DY210106 | 06/23/2021
| Secretary of the Treasury | Associate Director of Scheduling and Advance | DY200123 | 10/09/2020
|  | Chief Speech Writer and Senior Advisor | DY210093 | 05/19/2021
|  | Deputy Director of Scheduling and Advance | DY210107 | 06/14/2021
|  | Deputy Executive Secretary | DY210102 | 06/01/2021
|  | Deputy White House Liaison | DY210064 | 02/12/2021
|  | Director of Scheduling and Advance (2) | DY210027 | 01/13/2021
|  |  | DY210094 | 06/30/2021
|  | Policy Advisor | DY210100 | 05/19/2021
|  | Senior Advisor | DY210092 | 05/19/2021
|  | Senior Advisor to the Deputy Secretary | DY210076 | 03/12/2021
|  | Special Advisor to the Executive Secretary | DY200124 | 08/26/2020
|  | Special Assistant (3) | DY200111 | 07/11/2020
|  |  | DY210097 | 05/19/2021
|  |  | DY210098 | 05/19/2021
|  | Special Assistant to the Executive Secretary | DY200108 | 07/02/2020
|  | Spokesperson | DY210095 | 05/19/2021
|  | White House Liaison | DY210051 | 01/20/2021
| Office of the Under Secretary for Domestic Finance | Senior Advisor | DY210090 | 05/19/2021
|  | Counselor | DY210108 | 06/21/2021
| Office of the Under Secretary for International Affairs | Senior Advisor to the Under Secretary International Affairs | DY200125 | 10/09/2020
UNITED STATES INTERNATIONAL TRADE COMMISSION | Office of Commissioner Stayin | Staff Assistant (Legal)(2) | TC200008 | 10/01/2020
|  |  | TC210004 | 04/07/2021
DEPARTMENT OF VETERANS AFFAIRS | Office of Intergovernmental Affairs | Special Assistant | DV200105 | 10/01/2020
| Office of Public Affairs | Press Secretary | DV200095 | 09/29/2020
| Office of the Assistant Secretary for Congressional and Legislative Affairs | Special Assistant (3) | DV200089 | 07/28/2020
|  |  | DV200097 | 10/17/2020
|  |  | DV210034 | 02/05/2021
| Office of the Assistant Secretary for Enterprise Integration | Special Assistant | DV210067 | 05/28/2021
| Office of the Assistant Secretary for Public and Intergovernmental Affairs | Special Assistant | DV210023 | 01/20/2021
|  | Press Secretary | DV210024 | 01/20/2021
| Office of the General Counsel | Special Assistant (Attorney Advisor) | DV200104 | 09/30/2020
|  | Special Assistant (Attorney) | DV210066 | 06/04/2021
| Office of the Secretary and Deputy | Chief Speechwriter | DV210060 | 05/03/2021
|  | Director of Mission Operations | DV210022 | 01/20/2021
|  | Special Assistant | DV210035 | 02/04/2021
|  | Special Assistant to the Deputy Chief of Staff/White House Liaison | DV210056 | 03/23/2021
|  | White House Liaison | DV210028 | 01/20/2021

Authority:

5 U.S.C. 3301 and 3302; E.O.10577, 3 CFR, 1954-1958 Comp., p.218.

Office of Personnel Management.
Stephen Hickman,
Federal Register Liaison.

[FR Doc. 2022-18175 Filed 8-23-22; 8:45 am]

BILLING CODE 6325-39-P